ENVIRONMENTAL PROTECTION AGENCY

40 CFR Part 63

[EPA-HQ-OAR-2005-0526; FRL-8508-6]

RIN 2060-AN21

National Emission Standards for Hazardous Air Pollutants: Paint Stripping and Miscellaneous Surface Coating Operations at Area Sources

AGENCY: Environmental Protection Agency (EPA).

ACTION: Final rule.

SUMMARY: This action promulgates national emission standards for hazardous air pollutants (NESHAP) for area sources engaged in paint stripping, surface coating of motor vehicles and mobile equipment, and miscellaneous surface coating operations. EPA has listed “Paint Stripping,” “Plastic Parts and Products (Surface Coating),” and “Autobody Refinishing Paint Shops” as area sources of hazardous air pollutants (HAP) that contribute to the risk to public health in urban areas under the Integrated Urban Air Toxics Strategy. This final rule includes emissions standards that reflect the generally available control technology or management practices in each of these area source categories. “Plastic Parts and Products (Surface Coating)” has been renamed “Miscellaneous Surface Coating,” and “Autobody Refinishing Paint Shops” has been renamed “Motor Vehicle and Mobile Equipment Surface Coating” to more accurately reflect the scope of these source categories.

DATES: This final rule is effective on January 9, 2008. The incorporation by reference of certain publications listed in this rule is approved by the Director of the Federal Register as of January 9, 2008.

ADDRESSES: The EPA has established a docket for this action under Docket ID No. EPA-HQ-OAR-2005-0526. All documents in the docket are listed in the Federal Docket Management System index at http://www.regulations.gov. Although listed in the index, some information is not publicly available, e.g., confidential business information or other information whose disclosure is restricted by statute. Certain other material, such as copyrighted material, is not placed on the Internet and will be publicly available only in hard copy form. Publicly available docket materials are available either electronically through www.regulations.gov or in hard copy at the EPA Docket Center, Public Reading Room, EPA West, Room 3334, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For technical information concerning the paint stripping standards, contact Mr. Warren Johnson, Office of Air Quality Planning and Standards, Sector Policies and Programs Division, Natural Resources and Commerce Group (E143-03), U.S. Environmental Protection Agency, Research Triangle Park, North Carolina 27711, telephone (919) 541-5124, or e-mail at Johnson.warren@epa.gov. For technical information concerning the surface coating standards, contact Ms. Kim Teal, Office of Air Quality Planning and Standards, Sector Policies and Programs Division, Natural Resources and Commerce Group (E143-03), U.S. Environmental Protection Agency, Research Triangle Park, North Carolina 27711, telephone (919) 541-5580, or e-mail at teal.kim@epa.gov.

SUPPLEMENTARY INFORMATION:

Outline

The information presented in this preamble is organized as follows:

I. General Information

A. Does This Action Apply to Me?

B. Where Can I Get a Copy of This Document?

C. Judicial Review

II. Background Information for Final Area Source Standards

III. Summary of Final Rule

A. Applicability

B. Compliance Dates

C. Requirements for Paint Stripping Operations

D. Surface Coating Requirements

E. Notifications, Recordkeeping, and Reporting

IV. Summary of Changes Since Proposal

A. Applicability

B. Compliance Dates

C. Requirements for Paint Stripping Operations

D. Requirements for Surface Coating Operations

E. Notifications, Recordkeeping, and Reporting

V. Summary of Comments and Responses

A. Applicability

B. Compliance date

C. Requirements for Paint Stripping Operations

D. Authority to Regulate Miscellaneous Surface Coating Operations

E. Basis of Surface Coating Standards

F. Training Requirements

G. Spray Gun Requirements

H. Spray Booths

I. Spray Booth Filters

J. Spray Gun Washers

K. Reporting, Recordkeeping, and Compliance

L. Cost and Economic Impacts

VI. Summary of Environmental, Energy, and Economic Impacts

A. What are the air impacts?

B. What are the cost impacts?

C. What are the economic impacts?

D. What are the non-air health, environmental, and energy impacts?

VII. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions Concerning Regulations That Significantly Affect Energy Supply, Distribution, or Use

I. National Technology Transfer Advancement Act

J. Executive Order 12898: Federal Actions to Address Environmental Justice in Minority Populations and Low-Income Populations

K. Congressional Review Act

I. General Information

A. Does this action apply to me?

Categories and entities potentially affected by the rule are paint stripping operations using methylene chloride (MeCl)-containing paint strippers, motor vehicle and mobile equipment surface coating operations, and miscellaneous surface coating operations located at area sources. An area source is defined in the Clean Air Act (CAA) section 112(a) as any stationary source of HAP that is not a major source, and a major source is defined as any stationary source or group of stationary sources located within a contiguous area and under common control that emits, or has the potential to emit, considering controls, in the aggregate, 10 tons per year (tpy) or more of any single HAP or 25 tpy or more of any combination of HAP.

For the purposes of this rule, paint stripping operations are those that perform paint stripping using MeCl for the removal of dried paint (including, but not limited to, paint, enamel, varnish, shellac, and lacquer) from wood, metal, plastic, and other substrates at area sources as either:

(1) an independent activity where paint stripping is the principal activity at the source, or

(2) an activity incidental to the principal activity (e.g., surface coating, inspection, maintenance, etc.) at the source.

For co-located operations, EPA considers paint stripping activities that use one ton or less to be incidental to the principal activity and those using more than one ton to be performing paint stripping as a principal activity.

Motor vehicle and mobile equipment surface coating operations involve the spray application of coatings at area sources to automobiles, light trucks, heavy duty trucks, buses, construction equipment, self-propelled vehicles and equipment that may be drawn and/or driven on a roadway.

Miscellaneous surface coating operations are those that involve the spray application of coatings that contain compounds of chromium (Cr), lead (Pb), manganese (Mn), nickel (Ni), or cadmium (Cd), herein after referred to as target HAP, to miscellaneous parts and/or products made of metal or plastic, or combinations of metal and plastic.

In general, the facilities and entities potentially affected by some or all of the rule are covered under the North American Industrial Classification System (NAICS) codes listed in the following table. However, facilities classified under other NAICS codes may be subject to the standards if they meet the applicability criteria.

Category | NAICS | Examples of potentially regulated entities
Aerospace Equipment | 336413, 336414, 336415, 54171 | Aircraft engines, aircraft parts, aerospace ground equipment.
Automobiles and Automobile Parts | 336111, 336211, 336312, 33632, 33633, 33634, 33637, 336399, 441110, 441120, 811121 | Engine parts, vehicle parts and accessories, brakes, axles, etc. Motor vehicle body manufacturing and automobile assembly plants. New and used car dealers. Automotive body, paint, and interior repair and maintenance.
Chemical Manufacturing and Product Preparation | 325110, 325120, 325131, 325188, 325192, 325193, 325199, 325998 | Petrochemicals, Industrial Gases, Inorganic Dyes and Pigments, Basic Inorganic and Organic Chemicals, Cyclic Crude and Intermediates, Ethyl Alcohol, Miscellaneous Chemical Production and Preparation.
Extruded Aluminum | 331316, 331524, 332321, 332323 | Extruded aluminum, architectural components, coils, rod, and tubes.
Government | Not Applicable | Government entities, besides Department of Defense, that maintain vehicles, such as school buses, police and emergency vehicles, transit buses, or highway maintenance vehicles.
Heavy Equipment | 33312, 333611 | Tractors, earth moving machinery.
Job Shops | 332722, 332813, 332991, 334119, 336413, 339999 | Manufacturing industries not elsewhere classified (e.g., bezels, consoles, panels, lenses).
Large Trucks and Buses | 33612, 336211 | Large trucks and buses.
Metal Buildings | 332311 | Prefabricated metal buildings, carports, docks, dwellings, greenhouses, panels for buildings.
Metal Containers | 33242, 81131, 322214, 331513 | Drums, kegs, pails, shipping containers.
Metal Pipe and Foundry | 331111, 331513, 33121, 331221, 331511 | Plate, tube, rods, nails, etc.
Rail Transportation | 33651, 336611, 482111 | Brakes, engines, freight cars, locomotives.
Recreational Vehicles and Other Transportation Equipment | 321991, 3369, 331316, 336991, 336211, 336112, 336212, 336213, 336214, 336399, 336999, 33635, 56121, 8111, 56211 | Mobile Homes. Motorcycles, motor homes, semi trailers, truck trailers. Miscellaneous transportation related equipment and parts. Travel trailer and camper manufacturing.
Rubber-to-Metal Products | 326291, 326299 | Engine mounts, rubberized tank tread, harmonic balancers.
Structural Steel | 332311, 332312 | Joists, railway bridge sections, highway bridge sections.
Waste Treatment, Disposal, and Materials Recovery | 562211, 562212, 562213, 562219, 562920 | Hazardous Waste Treatment and Disposal, Solid Waste Landfill, Solid Waste Combustors and Incinerators, Other Nonhazardous Waste Treatment and Disposal, Materials Recovery.
Other Industrial and Commercial | 211112 | Natural Gas Liquid Extraction.
| 311942 | Spices and Extracts.
| 331311 | Alumina Refining.
| 337214, 811420 | Office furniture, except wood. Reupholstery and Furniture Repair.
| 325211 | Plastics Material Synthetic Resins, and Nonvulcanizable Elastomers.
| 325510 | Paint and Coating Manufacturing.
| 32614, 32615 | Plastic foam products (e.g., pool floats, wrestling mats, life jackets).
| 326199 | Plastic products not elsewhere classified (e.g., name plates, coin holders, storage boxes, license plate housings, cosmetic caps, cup holders).
| 333313 | Office machines.
| 33422 | Radio and television broadcasting and communications equipment (e.g., cellular telephones).
| 339111, 339112 | Medical equipment and supplies.
| 33992 | Sporting and athletic goods.
| 33995 | Signs and advertising specialties.
| 336612 | Boat building.
| 713930 | Marinas, including boat repair yards.

This table is not intended to be exhaustive, but rather provides a guide for readers regarding entities likely to be regulated by the rule. Many types of entities that perform stripping and/or coating that are not listed in this table would be potentially affected by the rule. Additionally, some entities that are classified under the NAICS codes in the table may not be subject if they are not performing the operations described in the applicability criteria in §§ 63.11169 and 63.11170 of the rule. To determine whether your facility, company, business, organization, etc., is subject to this action, you should examine the applicability criteria in §§ 63.11169 and 63.11170 of the rule. If you have any questions regarding the applicability of this action to a particular entity, consult the person listed in the preceding FOR FURTHER INFORMATION CONTACT section.

B. Where can I get a copy of this document?

In addition to being available in the docket, an electronic copy of this final action will also be available on the Worldwide Web (WWW) through the Technology Transfer Network (TTN). A copy of this final action will be posted on the TTN's policy and guidance page for newly proposed or promulgated rules at the following address: http://www.epa.gov/ttn/oarpg/. The TTN provides information and technology exchange in various areas of air pollution control.

C. Judicial Review

Under section 307(b)(1) of the CAA, judicial review of this final rule is available only by filing a petition for review in the U.S. Court of Appeals for the District of Columbia Circuit by March 10, 2008. Under section 307(d)(7)(B) of the CAA, only an objection to the rule that was raised with reasonable specificity during the period for public comment can be raised during judicial review. Moreover, under section 307(b)(2) of the CAA, the requirements established by this final rule may not be challenged separately in any civil or criminal proceedings brought by EPA to enforce these requirements.

II. Background Information for Final Area Source Standards

Section 112(k)(3)(B) of the CAA requires EPA to identify at least 30 HAP, which, as the result of emissions of area sources, pose the greatest threat to public health in urban areas. Consistent with this provision, EPA identified the 30 HAP that pose the greatest potential health threat in urban areas in 1999. These HAP are referred to as the “Urban HAP” as part of the Integrated Urban Air Toxics Strategy. See 64 FR 38715, July 19, 1999. Section 112(c)(3) requires EPA to list sufficient categories or subcategories of area sources to ensure that area sources representing 90 percent of the emissions of the 30 Urban HAP are subject to regulation. EPA listed the source categories that account for 90 percent of the Urban HAP emissions in the Integrated Urban Air Toxics Strategy.¹ Sierra Club sued EPA, alleging a failure to complete standards for the area source categories listed pursuant to CAA sections 112(c)(3) and (k)(3)(B) within the time frame specified by the statute. See Sierra Club v. Johnson, No. 01-1537, (D.D.C.). On March 31, 2006, the court issued an order requiring EPA to promulgate standards under CAA section 112(d) for those area source categories listed pursuant to CAA section 112(c)(3).

¹ Since its publication in the Integrated Urban Air Toxics Strategy in 1999, EPA has revised the area source category list several times.

Among other things, the order as amended on October 15, 2007, requires that, by December 15, 2007, EPA complete standards for nine area source categories. On September 17, 2007, EPA proposed NESHAP for Paint Stripping and Miscellaneous Surface Coating Operations at Area Sources. The proposal covered the following three listed area source categories that were selected to meet the December 15, 2007, deadline: (1) Paint Stripping, (2) Plastic Parts and Products (Surface Coating), and (3) Autobody Refinishing Paint Shops. See 72 FR 52958. This final NESHAP completes the required regulatory action for three area source categories.

Under CAA section 112(d)(5), the Administrator may, in lieu of standards requiring maximum achievable control technology (MACT) under section 112(d)(2), elect to promulgate standards or requirements for area sources “which provide for the use of generally available control technologies (GACT) or management practices by such sources to reduce emissions of hazardous air pollutants.” As explained in the proposed NESHAP, EPA is setting standards for these area source categories pursuant to section 112(d)(5). See 72 FR 52958, September 17, 2007.

III. Summary of Final Rule

A. Applicability

We have revised the rule since proposal to clarify the sources to which it applies. In order to clarify the applicability of the final rule and the standards that apply, §§ 63.11169 and 63.11170 of the final rule distinguish among the three separate area source categories: paint stripping, motor vehicle and mobile equipment surface coating, and miscellaneous surface coating. The rule contains separate provisions describing the requirements for each category.

The final subpart does not apply to any of the following activities listed in § 63.11169:

(1) Surface coating or paint stripping performed on site at installations owned or operated by the Armed Forces of the United States (including the Coast Guard and the National Guard of any State), the National Aeronautics and Space Administration, or the National Nuclear Security Administration.

(2) Surface coating or paint stripping of military munitions, as defined in § 63.11180, manufactured by or for the Armed Forces of the United States (including the Coast Guard and the National Guard of any State) or equipment directly and exclusively used for the purposes of transporting military munitions.

(3) Surface coating or paint stripping performed by individuals on their personal vehicles, possessions, or property, either as a hobby or for maintenance of their personal vehicles, possessions, or property. This subpart also does not apply when these operations are performed by individuals for others without compensation. An individual who spray applies surface coating of more than two motor vehicles or pieces of mobile equipment per year is subject to the requirements in this subpart that pertain to motor vehicle and mobile equipment surface coating regardless of whether compensation is received.

(4) Surface coating or paint stripping that meets the definition of “research and laboratory activities” in § 63.11180 of the final rule.

(5) Surface coating or paint stripping that meets the definition of “quality control activities” in § 63.11180 of the final rule.

(6) Surface coating or paint stripping that is specifically covered by another area source NESHAP.

Section 63.11170 specifies the operations that are subject to the final standards. For paint stripping, the final rule applies to you if you use chemical strippers that contain MeCl to remove dried paint (including, but not limited to, paint, enamel, varnish, shellac, and lacquer) from wood, metal, plastic, and other substrates.

The final rule also applies to you if you spray apply coatings to motor vehicles or mobile equipment for the purposes of finishing or refinishing, and clarifies that the standards apply to all sources performing these operations using spray-applied coatings, including mobile refinishing operations, except those operations that meet the definition of facility maintenance in § 63.11180. Finally, the rule applies if you spray apply coatings that contain the target HAP to plastic or metal parts and products (other than motor vehicles and mobile equipment), except those operations that meet the definition of facility maintenance or that are surface coating of a space vehicle. If you perform miscellaneous surface coating operations, but do not use any coatings that contain the target HAP, the rule does not apply.

The final rule applies to all motor vehicle and mobile equipment surface coating operations. However, if you are the owner or operator of a motor vehicle or mobile equipment surface coating operation, you may petition the Administrator for an exemption from this subpart if you can demonstrate, to the satisfaction of the Administrator, that you spray apply no coatings that contain the target HAP. Petitions must include a description of the coatings that you spray apply and your certification that you do not spray apply any coatings containing the target HAP. If circumstances change such that you intend to spray apply coatings containing the target HAP, you must submit the initial notification required by 63.11175 and comply with the requirements of this subpart.

Coatings are considered to contain the target HAP if they contain any individual target HAP that is an Occupational Safety and Health Administration (OSHA)-defined carcinogen as specified in 29 CFR 1910.1200(d)(4) at a concentration greater than 0.1 percent by mass or greater than 1.0 percent by mass for any other individual target HAP. For the purpose of determining whether materials you use contain the target HAP (that is, compounds of chromium (Cr), lead (Pb), manganese (Mn), nickel (Ni), or cadmium (Cd)), you may rely on formulation data provided by the manufacturer or supplier, such as the material safety data sheet (MSDS), as long as it represents each target HAP compound in the material that is present at 0.1 percent by mass or more for OSHA-defined carcinogens and at 1.0 percent by mass or more for other target HAP compounds.

The final rule also includes in § 63.11180 definitions of “administrator,” “coating,” “facility maintenance,” “quality control activities,” “research and laboratory activities,” “space vehicle,” and “spray application of coatings” related to these applicability provisions.

“Administrator” means the Administrator of the U.S. Environmental Protection Agency or the State or local agency that is granted delegation for implementation of this subpart.

“Coating” is defined as a material spray-applied to a substrate for decorative, protective, or functional purposes. As specified in the definition in the final rule, “coating” does not include the following materials:

(1) Decorative, protective, or functional materials that consist only of protective oils for metal, acids, bases, or any combination of these substances.

(2) Paper film or plastic film that may be pre-coated with an adhesive by the film manufacturer.

(3) Adhesives, sealants, maskants, or caulking materials.

(4) Temporary protective coatings, lubricants, or surface preparation materials.

(5) In-mold coatings that are spray-applied in the manufacture of reinforced plastic composite parts.

“Facility maintenance” is defined to include architectural surface coating activities on stationary structures and process equipment. It is also defined to include the surface coating of mobile equipment in the field, such as farming or mining equipment, or mobile equipment coated at a site where it is used, such as a fork truck coated at a manufacturing facility. The definition of facility maintenance specifically excludes surface coating of motor vehicles, mobile equipment, or items that routinely leave and return to the facility, such as delivery trucks, rental equipment, or containers used to transport or deliver products to customers, such as compressed gas canisters. The surface coating of these items (e.g., courier vehicles or compressed gas canisters) that routinely leave and return to the facility will be subject to the standards.

“Quality control activities” has been defined to mean surface coating or paint stripping activities that meet all of the following criteria:

(1) The activities, associated with a surface coating or paint stripping operation, to detect and correct defects in the final product through selection of limited samples from the operation, and comparison of the samples against specific performance criteria.

(2) The activities do not include the production of an intermediate or final product for sale or exchange for commercial profit; for example, parts that are surface coated or stripped are not sold.

(3) The activities are not a normal part of the miscellaneous surface coating or paint stripping operation, e.g., they do not include color matching activities performed on motor vehicles as part of collision repair activities.

(4) The activities do not involve surface coating or stripping of the tools, equipment, machinery, and structures that comprise the infrastructure of the affected facility and that are necessary for the facility to function in its intended capacity, e.g., the activities are not facility maintenance.

“Research and laboratory activities” has been defined to mean surface coating or paint stripping activities whose primary purpose is to conduct research and development into new processes and products, that are performed under the close supervision of technically trained personnel and do not include the manufacture of intermediate or final products for commercial sale in commerce. Such activities are ordinarily conducted in a dedicated area of a facility (such as a dedicated room or paint booth), or in a separate facility. Research and laboratory activities include, but are not limited to the following:

(1) Activities conducted to develop more efficient production processes, including alternative paint stripping or surface coating materials or application methods, or methods for preventing or reducing adverse environmental impacts.

(2) Activities conducted at a laboratory to analyze air, soil, water, waste, or product samples for contaminants or environmental impact or to develop revised production processes to limit environmental effects.

“Space Vehicle” has been defined to mean vehicles designed to travel beyond the limit of the earth's atmosphere, such as satellites, space stations, and the Space Shuttle System (including orbiter, external tanks, and solid rocket boosters).

“Spray-applied coating operations” has been defined to mean coatings that are applied using a hand-held device that creates an atomized mist of coating and deposits the coating on a substrate. As specified in the definition in the final rule, the following materials or activities are not considered spray-applied coatings:

(1) Coatings applied from a hand-held device with a paint cup capacity that is equal to or less than 3.0 fluid ounces (89 cubic centimeters (cc)).

(2) Surface coating application using powder coating, hand-held, non-refillable aerosol containers, or non-atomizing application technology, including, but not limited to, paint brushes, rollers, hand wiping, flow coating, dip coating, electrodeposition coating, web coating, coil coating, touch-up markers, or marking pens.

(3) Thermal spray operations (also known as metallizing, flame spray, plasma arc spray, and electric arc spray, among other names) in which solid metallic or non-metallic material is heated to a molten or semi-molten state and propelled to the work piece or substrate by compressed air or other gas, where a bond is produced upon impact.

B. Compliance Dates

New sources must comply with the requirements of the final rule upon startup of operations, but no earlier than the effective date of this notice. Existing sources must comply no later than three years from the effective date of this notice.

C. Requirements for Paint Stripping Operations

All owners and operators of regulated sources conducting paint stripping and using MeCl-containing paint stripper must implement management practices that reduce emissions of MeCl by minimizing evaporative losses of MeCl. The MeCl management practices involve only using a MeCl-containing paint stripper when an alternative on site stripping method or material is incapable of accomplishing the work as determined by the operator. Alternative methods to reduce MeCl usage may include:

(1) Non- or low-MeCl-containing chemical strippers;

(2) Mechanical stripping;

(3) Blasting (including dry or wet media); or

(4) Thermal and cryogenic decomposition.

The management practices required also include optimizing stripper application conditions, reducing exposure of stripper to the air, and practicing proper storage and disposal of materials containing MeCl. Owners and operators must also maintain records of annual usage of strippers containing MeCl.

In addition to the management practices, sources that use more than one ton of MeCl per year need to develop and implement a MeCl minimization plan. This must be a written plan including criteria to evaluate the necessity of MeCl in the stripping operations and whether alternatives are feasible. It must also describe the management techniques that will be used to minimize MeCl emissions when MeCl is needed in the paint stripping operation.

The MeCl minimization plan evaluation criteria involves only using a MeCl-containing paint stripper when an alternative on site stripping method or material is incapable of accomplishing the work as determined by the operator. Alternative methods to reduce MeCl usage may include:

(1) Non- or low-MeCl-containing chemical strippers;

(2) Mechanical stripping;

(3) Blasting (including dry or wet media); or

(4) Thermal and cryogenic decomposition.

The management practices required to be contained in the plan include optimizing stripper application conditions, reducing exposure of stripper to the air, and practicing proper storage and disposal of materials containing MeCl. Sources are required to notify either EPA or the delegated State permit authority that they have developed a MeCl minimization plan, keep a written copy of the plan on site and post a placard or sign outlining the evaluation criteria and management techniques in each area where MeCl-containing paint stripping operations occur. They are also required to review the plan annually and update it based on the experiences of the previous year or the availability of new methods of stripping and to keep a record of the review and changes made to the plan on file.

D. Requirements for Surface Coating Operations

All motor vehicle and mobile equipment surface coating operations and those miscellaneous surface coating operations that spray apply coatings containing the target HAP must apply the coatings with a high volume, low pressure (HVLP) spray gun, electrostatic spray gun, airless spray gun, air-assisted airless spray gun, or a gun demonstrated to be equal in transfer efficiency to an HVLP spray gun. All spray-applied coatings must be applied in a prep station or spray booth. For motor vehicle and mobile equipment surface coating, prep stations and spray booths that are large enough to hold a complete vehicle must have four complete side walls or curtains and a complete roof. For motor vehicle and mobile equipment subassemblies and for miscellaneous surface coating, coatings must be spray applied in a booth with a full roof and at least three walls or side curtains. Openings are allowed in the sidewalls and roof of booths used for miscellaneous surface coating to allow for parts conveyors, if needed. The exhaust from the prep station or spray booth must be fitted with filters demonstrated to achieve at least 98 percent filter efficiency of paint overspray.

Additionally, surface coating sources subject to the standards are required to comply with management practices by demonstrating that:

(1) All painters that spray apply coatings have completed training in techniques to minimize paint overspray, and

(2) That no spray gun cleaning is performed by spraying solvent through the gun creating an atomized mist (i.e., spray guns are cleaned in an enclosed spray gun cleaner or by cleaning the disassembled gun parts by hand).

Initial painter training will be valid for a period of five years, and refresher training must be repeated at least once every five years. Painters that completed training in the last five years before the compliance date will be able to use that training to satisfy this requirement. To comply with the painter training requirements, all spray painters at new sources must complete training no later than 180 days after hiring or 180 days from the date of this notice, whichever is later. All spray painters at existing sources must complete training no later than three years from the date of this notice or no later than 180 days after hiring, whichever is later.

The initial and refresher training must address the following topics to reduce coating overspray and emissions:

(1) Spray gun equipment selection, set up, and operation, including measuring coating viscosity, selecting the proper fluid tip or nozzle, and achieving the proper spray pattern, air pressure and volume, and fluid delivery rate.

(2) Spray technique for different types of coatings to improve transfer efficiency and minimize coating usage and overspray, including maintaining the correct spray gun distance and angle to the part, using proper banding and overlap, and reducing lead and lag spraying at the beginning and end of each stroke.

(3) Routine spray booth and filter maintenance, including filter selection and installation.

(4) Environmental compliance with the requirements of this subpart.

E. Notifications, Recordkeeping, and Reporting

All sources must submit an initial notification to the EPA or to their State or local air pollution control agency, if the EPA has delegated authority for implementing this rule to that agency, with a copy sent to EPA, unless the EPA regional office has waived the dual reporting requirements. New sources need to submit the initial notification no later than 180 days after initial startup, or no later than 180 days after the date of this notice, whichever is later. Existing sources need to submit the initial notification no later than one year before their compliance date. For new sources, the initial notification will also serve as a notification on whether the source is in compliance. For existing sources, the initial notification must indicate whether the source is already in compliance or that it will be brought into compliance by the existing source compliance date.

Additionally, all existing sources that did not state in their initial notification that they were already in compliance with the management practices and equipment requirements prescribed in the final rule must also submit a notification of compliance status. The notification of compliance status must be submitted no later than 60 days after the compliance date for existing sources. The notification of compliance status must certify that the source is in compliance with the applicable requirements for the activities being performed.

The initial notification must include the following information:

(1) The name, address, phone number and e-mail address (if available) of the owner and operator.

(2) The address (physical location) of the affected source. If the source is a motor vehicle or mobile equipment surface coating operation that repairs vehicles at the customer's location, rather than at a fixed collision repair shop, the notification should state this and indicate the physical location where records are kept to demonstrate compliance.

(3) A statement that the source is subject to this standard, 40 CFR part 63, subpart HHHHHH.

(4) A brief description of the type of operation, including which types of activities are performed at the source (miscellaneous surface coating, motor vehicle and mobile equipment surface coating, or paint stripping). For surface coating operations, identify the number of spray booths and the number of painters usually employed at the operation. For paint stripping, identify the method(s) of paint stripping employed (e.g., chemical, mechanical) and the substrates stripped (e.g., wood, plastic, metal).

(5) Each paint stripping operation must indicate whether they plan to annually use more than one ton of MeCl after the compliance date.

Sources are only required to submit an annual report to the EPA or to their State or local air pollution control agency if any information in the initial notification, notification of compliance status report, or in a previous annual report has changed in the previous calendar year. If an annual report is needed, it must be submitted no later than 60 days after the yearly anniversary of the compliance date.

All sources must keep records sufficient to demonstrate that they are in compliance at all times. These include the following:

(1) Records that each spray painter has completed the training, with the date of the initial training and the most recent refresher training.

(2) Documentation of the filter efficiency of any spray booth exhaust filter material, such as data from the filter manufacturer.

(3) Documentation from the spray gun manufacturer that each spray gun that does not meet the definition of an HVLP spray gun, electrostatic spray gun, airless spray gun, or air-assisted airless spray gun has been demonstrated to achieve a transfer efficiency equal to one of the other allowed types of spray gun.

(4) Copies of any notifications or reports that were submitted.

(5) Records of paint strippers containing MeCl used for paint stripping operations, including the MeCl content of the paint stripper used, and annual usage.

(6) If you are a paint stripping source that annually uses more than one ton of MeCl, a record of your current MeCl minimization plan, and records of your annual review of, and updates to, your MeCl minimization plan.

(7) Records of any deviation from the requirements in the final rule, including the date and time period of the deviation, and a description of the nature of the deviation and the actions taken to correct the deviation.

(8) Records of any assessments of source compliance performed in support of the initial notification, notification of compliance status, or annual notification of changes report.

Under the final rule, owners and operators will not be required to obtain a Title V operating permit under 40 CFR part 70 or 71, provided they are not required to obtain a permit for another reason, even though the source is an area source.

IV. Summary of Changes Since Proposal

A. Applicability

We have revised the rule since proposal to clarify the scope of the source category to which it applies, and to clearly identify the sources subject to the requirements of the rule. These revisions make clear that the affected source category is not as broad as could have been interpreted based on the language of the proposed rule. These changes were made in both the applicability sections (§§ 63.11169 to 63.11171) and to the definitions in § 63.11180 that describe particular operations that are subject to the standards.

We have revised § 63.11169 to specify that compounds of chromium (Cr), lead (Pb), manganese (Mn), nickel (Ni), and cadmium (Cd) are the HAP for which the surface coating standards for miscellaneous surface coating operations category was listed and which the standards are designed to control. In subsequent sections of the rule, certain provisions apply only to surface coating operations that are sources of these target HAP.

We have revised § 63.11170 to separate and more clearly explain how the rule applies to paint stripping, motor vehicle and mobile equipment surface coating, and miscellaneous surface coating. In particular, motor vehicle and mobile equipment surface coating has been separated from the larger category of miscellaneous surface coating and is treated separately in the rest of the rule. In the proposed rule, all surface coating was included under a single set of requirements that made no distinction between motor vehicle and mobile equipment surface coating and all other miscellaneous surface coating.

The National Nuclear Security Administration (NNSA) has been added to the list of installations to which this subpart does not apply. This list is found in § 63.11169. Surface coating and paint stripping at NNSA installations would be regulated by the military surface coating NESHAP that is under development.

Section 63.11169 has also been revised to specify that these standards do not apply to paint stripping and surface coating performed by individuals as part of a hobby, or for maintenance of their personal vehicles, possessions, and property, or when they perform these activities for others without compensation.

For motor vehicle and mobile equipment surface coating, all sources and individuals that spray finish more than two motor vehicles or pieces of mobile equipment per year are subject to the requirements in the final rule that pertain to motor vehicle and mobile equipment surface coating regardless of whether compensation is received. However, we have included a provision in the final rule that allows an owner or operator of a motor vehicle or mobile equipment surface coating operation to petition the Administrator for an exemption from this subpart if the owner or operator can demonstrate that they spray apply no coatings that contain the target HAP. Petitions must include a description of the coatings that they spray apply and certification that they do not spray apply any coatings containing the target HAP. If circumstances change such that the owner or operator intends to spray apply coatings containing the target HAP, the owner or operator must submit the initial notification required by 63.11175 and comply with the requirements of this subpart. While the proposed rule would have required all motor vehicle and mobile equipment surface coating operations to comply with the requirements of the rule, because the category was listed for the target HAP, it is appropriate to allow operations that do not use products containing the target HAP to request that the rule not apply to them based on an adequate demonstration that they do not use such products. EPA's understanding, based on site visits and communications with the industry, is that many shops, especially smaller ones, purchase coatings “over the counter” on a retail basis and usually do not receive composition data, such as a material safety data sheet (MSDS), with these coatings. In addition, when a specific color is needed for refinishing a vehicle, it is usually custom-mixed from any number of about 50 different toners, either by the painter at the shop, or by the coating retailer. Therefore, it will likely be very difficult to determine whether any particular coating being sprayed contains the target HAP, unless the HAP composition of all coatings within the shop is known. For this reason, and because we received comments from industry supporting the proposed requirements, we expect that few, if any, petitions will be received. We hope to encourage reformulation where possible through this provision.

The applicability language in § 63.11169 in the final rule has been revised to exclude paint stripping and surface coating that meets the definition of research and laboratory activities, and quality control activities, as defined in § 63.11180.

The applicability language in § 63.11170 for motor vehicle and mobile equipment surface coating operations has been revised to clarify that the standards apply to all sources that spray apply these coatings, including mobile refinishing operations, except when they qualify as facility maintenance, as defined in § 63.11180.

The applicability language for miscellaneous surface coating operations has been revised to clarify the scope of the source category subject to regulation. First, the standards apply to the spray application of only coatings that contain the target HAP at miscellaneous surface coating operations. Second, language has been added to clarify that the standards apply only to plastic and metal substrates. Third, the rule has been revised to also exclude miscellaneous surface coating that meets the definition of “facility maintenance.” Finally, surface coating on space vehicles has been specifically excluded so as to parallel the applicability of subpart GG, the major source NESHAP for Aerospace Manufacturing and Rework Facilities.

The applicability of the final rule has been further clarified by revising or adding definitions to § 63.11180 that better explain the operations that are covered. The definition of “coating” was revised to clarify that the following are not coatings subject to this rule:

(a) Adhesives, sealants, maskants, or caulking materials.

(b) Temporary protective coatings, lubricants, or surface preparation materials.

(c) In-mold coatings that are spray-applied in the manufacture of reinforced plastic composite parts.

New definitions were added for “facility maintenance”, “quality control activities”, “research and laboratory activities”, and “spray-applied coating.” These definitions were fully described in section III.A of this preamble.

B. Compliance Dates

The compliance date for existing sources has been extended from two years to three years after the effective date of today's final rule notice.

C. Requirements for Paint Stripping Operations

The format of the MeCl minimization plan threshold for the paint stripping portion of the rule has been revised from total stripper volume usage to MeCl mass usage for several reasons. First, EPA believes it is more appropriate to address the emissions directly, when possible, in lieu of using a surrogate that may or may not accomplish the goal. Additionally, a mass usage format may serve as an incentive for sources to evaluate the appropriate MeCl content of their chemical strippers and also provide the sources with greater flexibility. The rule sets the MeCl minimization plan threshold at one ton per year of MeCl contained in paint strippers.

D. Requirements for Surface Coating Operations

The rule has been revised to create separate categories for motor vehicle and mobile equipment surface coating and for miscellaneous surface coating. For motor vehicle and mobile equipment surface coating, the requirements for painter training, high efficiency spray guns (e.g., HVLP or equivalent), spray booths with filters, and gun washing still apply to all sources as described in the applicability section of the rule.

For miscellaneous surface coating operations, the rule has been revised so that it applies only to those surface coating operations that spray apply coatings that contain the target HAP; other surface coating operations do not need to comply with those requirements. Miscellaneous surface coating operations that spray apply coatings that contain the target HAP must meet the same requirements as motor vehicle and mobile equipment surface coating operations.

The spray painter training requirements have been revised so that training is not required on those topics that do not have a direct effect on emissions reductions. More detail has been added on the topics that impact emissions reductions (e.g., transfer efficiency) and for which training is required. The training requirements have also been revised to allow an owner or operator to certify that their employees have completed training to facilitate the use of in-house training programs. Spray painters will also have 180 days to complete training after hiring or transferring to a surface coating job, instead of 60 days.

The requirements for spray guns have been revised to allow the use of airless or air-assisted airless spray guns without having to demonstrate that they are equivalent to HVLP spray guns in transfer efficiency.

The requirements for spray booth filters have been revised so that all spray booth exhaust filters must achieve 98 percent paint overspray filter efficiency (also referred to as “arrestance”), and details have been added on the method that must be used to measure that efficiency. The final rule also clarifies that compliance with the filter efficiency standard can be demonstrated through data provided by the filter manufacturer.

The booth requirements have been revised to allow for openings in side walls and roofs for part conveyors. They have also been revised to allow for booths that are operated at up to 0.05 inches water gauge positive pressure, if they have sealed doors and other openings and use a pressure balancing system.

The rule language related to spray gun washing has been revised to clarify that atomized spraying of gun cleaning solvent is prohibited, and allowable means of washing spray guns include hand cleaning disassembled spray guns, manually flushing solvent through the gun (without atomizing it) and capturing the spent solvent, and using an enclosed gun washer, but an enclosed gun washer is not required.

E. Notifications, Recordkeeping, and Reporting

The notification and reporting requirements of the rule have been simplified and reduced. All sources will still need to submit an initial notification, but in that initial notification, sources will be asked to state whether they are already in compliance with the requirements of the rule or whether they plan to be in compliance by the compliance date. For new sources, the initial notification will also serve as the notification of compliance status since they would otherwise be due by the same date. If existing sources are already in compliance by the time they submit the initial notification and certify that they are in compliance in their initial notification, they do not need to submit a separate notification of compliance status. The need for regular annual compliance reports has also been removed. Sources will need to submit an annual compliance report only if there is a change in any of the information contained in the initial notification, the notification of compliance status (if one was needed), or in a previous annual compliance report (if one was needed).

The rule has been revised to remove the requirement for paint stripping sources to submit MeCl minimization plans to permitting authorities. Facilities will be required to submit either an initial notification or a notification of compliance status that says they have prepared and implemented the plan. Instead of submitting the plan, sources are only required to keep the plan on site. The facility has to review and update their plan annually and keep records of the review and changes made on site rather than submitting an annual compliance report to EPA or a State permitting authority.

For paint stripping, motor vehicle and mobile equipment surface coating operations, and miscellaneous surface coating operations, the rule has been revised so that these sources will only have to keep the records needed to demonstrate compliance instead of submitting annual compliance reports.

V. Summary of Comments and Responses

A. Applicability

Comment: Several commenters argued that the miscellaneous surface coating rule should apply only to surface coating facilities that emit the target HAP, and that target HAP should be defined as the HAP for which the miscellaneous surface coating source category was listed. These are specifically compounds of Cr, Pb, Mn, Ni, and Cd.

Response: The EPA agrees with the commenters and recognizes that many miscellaneous surface coating operations exist that do not spray apply coatings containing the target HAP. Therefore, the applicability sections have been revised so that the final rule will apply to only miscellaneous surface coating sources that spray apply coatings containing the target HAP. If your miscellaneous surface coating operations do not spray apply any coatings containing the target HAP, then you are not subject to this rule and do not need to comply with the requirements for operator training, spray guns, or spray booths. This change in the language of the applicability provision accurately reflects the sources for which the miscellaneous surface coating source category was listed, because sources that do not spray apply coatings containing the target HAP will have no target HAP emissions and were therefore not part of the inventory on which the source category listing was based. It will also create an incentive for all miscellaneous surface coating sources to review the coatings they are spray applying and find substitutes for those that contain the target HAP or to switch to non-spray methods to apply those coatings. Although some contract coaters and “job shops” may use a large number of different coatings, most miscellaneous surface coating operations use only a small number of coatings and the composition data for these can be reviewed to identify whether these coatings contain the target HAP.

However, based on the overwhelming support of the commenters for the applicability criteria and scope of the motor vehicle and mobile equipment source category, we are not narrowing the applicability to only the target HAP for the motor vehicle and mobile equipment source category. The EPA's understanding, based on site visits and communications with the industry, is that these requirements are consistent with current good environmental and worker protection practices. (See other comment responses for additional clarifications on applicability that exclude coating of personal property and vehicles, facility maintenance coating, etc.) The final rule applies to all motor vehicle and mobile equipment surface coating operations. However, if you are the owner or operator of a motor vehicle or mobile equipment surface coating operation, you may petition the Administrator for an exemption from this subpart if you can demonstrate, to the satisfaction of the Administrator, that you spray apply no coatings that contain the target HAP. Petitions must include a description of the coatings that you spray apply and your certification that you do not spray apply any coatings containing the target HAP. If circumstances change such that you intend to spray apply coatings containing the target HAP, you must submit the initial notification required by 63.11175 and comply with the requirements of this subpart.

Comment: One commenter suggested that the rule should be revised to add the NNSA to the list of installations to which this subpart does not apply. The commenter noted that EPA is planning that surface coating and paint stripping at NNSA installations would be addressed by the military surface coating NESHAP that is under development.

Response: The EPA agrees and has added NNSA installations to the list of installations to which this subpart does not apply. These installations will be addressed by the military surface coating NESHAP that is under development.

Comment: Several comments noted that the applicability of the proposed rule, as written, could be interpreted to apply to all paint stripping and surface coating operations, and included no exemptions for automobile hobbyists or homeowners stripping and painting their own property or vehicles. Nearly all commenters felt that paint stripping and surface coating by hobbyists and homeowners should be exempt from the rule. Several commenters suggested that EPA establish a de minimis usage threshold, based on either major source surface coating rules or state volatile organic compounds (VOC) rules, to exclude noncommercial paint stripping or surface coating operations. The commenters noted that hobbyist and homeowner activities are difficult to locate because they are located in residential areas and are intermittent. However, one commenter suggested that the rule should have no exemptions and any individual painting vehicles should be subject to the proposed equipment and training requirements.

Response: EPA re-examined the scope of the source categories that we listed based on the 1990 national emissions inventory. The analyses that were the basis for the source category listing for paint stripping, miscellaneous surface coating, and motor vehicle and mobile equipment surface coating focused on commercial operations, along with some government and institutional operations, such as municipal garages that service fleet vehicles. Homeowners and hobbyists were not part of these analyses and were not intended to be part of the listed source categories.

Therefore, the final rule has been revised to clarify that it does not cover paint stripping and surface coating performed by individuals on their personal vehicles, possessions, or property, either as a hobby or for maintenance. This subpart also does not apply when these operations are performed by individuals for others without compensation, which is akin to the hobbyist and homeowner activities not considered in the baseline inventory that formed the basis for the listing of the source categories at issue here.

However, for motor vehicle and mobile equipment surface coating operations, an individual surface coating more than two vehicles per year will be covered by the rule. This limit on the number of vehicles coated per year was included so that commercial automobile surface coating shops could not avoid compliance by claiming to be a hobby shop. The limit was based on information collected from automobile hobbyists during the rule development. The hobbyists that provided information to the EPA suggested that a legitimate hobbyist would complete no more than two automobile restorations or customizations per year.

The EPA is not including a volumetric coating usage threshold in the final rule for either motor vehicle and mobile equipment surface coating operations, or for miscellaneous surface coating operations, as suggested by some commenters, because the threshold is not supported by the baseline inventory on which we based our listing decision. CAA section 112(c)(3) requires that EPA list sufficient categories and subcategories to ensure that area sources representing 90 percent of the emissions of the 30 listed urban HAP are subject to regulation. The CAA contains no exemption from the statutory requirement to regulate sources accounting for 90 percent of the emissions of an urban HAP. The inventory does not indicate that in listing the categories at issue here EPA included only those sources that use coatings above a certain threshold amount. Moreover, the commenter's reliance on the use of thresholds in certain major source HAP rules and State VOC rules is misplaced. EPA listed the area source categories at issue in this rule because the categories accounted for a certain percentage of the emissions necessary to meet the 90 percent requirement for the target urban HAP; therefore, regulation of the categories as listed is necessary for EPA to attain the 90 percent reduction of those HAP and comply with the requirements of section 112(c)(3) and 112(k). The rules on which the commenters rely were not issued under these provisions.

Comment: Three commenters suggested EPA exempt from the proposed rule operations that use less than 150 gallons per year of paint stripper that contains MeCl. A commenter justified the exemption as allowing minor paint stripping operations to continue, and let the regulating authorities focus on the more significant operations and facilities.

Response: EPA is required by the CAA to regulate emissions from area sources, which are, by definition, small sources. Based on baseline emission estimates updated with additional information provided by commenters, we estimate that 150 gallons of MeCl equates to approximately one ton of MeCl emissions per year from each of these small sources. This represents around five percent of the total area source MeCl emissions considered in the original section 112(k) inventory. While we appreciate the opinions of the commenters to focus on the more significant emitters, we cannot justify ignoring this level of MeCl emissions.

We have minimized the requirements and burden on these low level users by not requiring them to develop MeCl minimization plans. We do not feel that asking them to consider alternatives to using MeCl-based strippers is overly burdensome. The reporting requirements for these low level users are also minimal. They must submit an initial notification letter and keep MeCl-based stripper purchase or use records, which we believe would be maintained for tax purposes already. We do not believe that receiving one letter per facility would be overly burdensome for permitting agencies. In conclusion, we feel that our approach has adequately balanced the requirements of the CAA without unduly burdening small businesses in this source category or permitting agencies.

Comment: One commenter noted that while basing the threshold level that triggers development of a written MeCl minimization plan on the total quantity of stripper used may simplify compliance, it does not consider the MeCl content of the stripper formulation, and thus may create a disincentive for facilities to explore formulations with lower MeCl content. They stated that, although the MeCl-based products commonly used in paint stripping operations contain 75 to 90 percent MeCl, products containing 40 to 50 percent of the solvent are also available. However, they pointed out that facilities may need to use more stripper to compensate for the lower MeCl content, resulting in the need for higher volumes. The commenter indicated that they did not believe that specifying a use threshold based on the MeCl content was appropriate. They indicated that a higher gallon-per-year limit would allow many paint stripping firms to explore the applicability of lower MeCl-content formulations to their operations. The commenter stated that discussions with member companies that formulate MeCl-based strippers for commercial operations indicated that a threshold of 500 to 600 gallons also would better distinguish between operations that perform paint stripping as a regular part of their business and those that conduct stripping on an as-needed (incidental) basis.

Another commenter said that to be cost effective, shops buy MeCl based strippers in 55 gallon drums, which makes the 150 gallon per year minimum unrealistic. They suggested that a 220 gallon per year threshold would be a more realistic number and would reflect a factor of cost-effective bulk purchases.

Response: As discussed in the proposal preamble (72 FR 52966), a subcategory of paint strippers was created to distinguish those sources that were assumed to have alternative on site paint stripping technologies available. The threshold level to define this subcategory was proposed as a volume of MeCl-based stripper used (150 gallons per year). Given the large number of small businesses that will be impacted by this rule, we thought that this volume-based threshold would lessen the burden when compared with a threshold based on the mass of MeCl in the stripper.

However, we do recognize the relevant points made by the commenter. If owners and operators performing paint stripping cannot find non-MeCl alternatives, we certainly want to encourage them to consider strippers with lower MeCl contents. We understand that basing this threshold on volume may provide a disincentive to the use of these low-MeCl content strippers.

Like the commenter, we do not believe that specifying a use threshold based on the MeCl content is appropriate. However, we believe that simply raising the volume-based threshold would remove all incentive to use lower MeCl content strippers, rather than encourage their usage. Increasing the volume-based threshold from the proposed 150 gallons per year to the suggested 500 to 600 gallons per year would increase the emissions of facilities required to develop a written MeCl minimization plan three or four-fold, assuming that they utilize a stripper with the same MeCl content. Further, sources using these levels of MeCl strippers could emit as much as three to four tons of MeCl if using high-MeCl content strippers. We do not believe it is unreasonable to require sources with the potential to emit MeCl at these levels to develop a formal plan for reducing these emissions and evaluating the feasibility of alternative paint stripping technology.

We considered including both a volume-based and mass-based threshold in the final rule. However, the complexity of such provisions defeated the purpose of using a simple volume-based threshold in the first place. Therefore, in the final rule, the threshold that defines the subcategory of paint strippers that is required to develop a written MeCl minimization plan is on a mass basis. Specifically, the final rule requires paint strippers that use more than one ton per year of MeCl in paint strippers to develop a written MeCl minimization plant to implement the management practices in the rule.

As noted in the proposal preamble, a major criterion in the selection of the proposed 150 gallons per year threshold was our model plant impacts analysis. The 150 gallons per year level was selected for the model plant representing stripping operations that use between 100 and 250 gallons of MeCl paint strippers. Facilities represented by this model plant would be using around one ton of MeCl per year for their paint stripping operations, depending on the density of the stripper and the percent of MeCl in the stripper (assuming the higher range of MeCl contents confirmed by the commenter). Therefore, as described elsewhere in the record for this rulemaking, any level selected within this range would still be consistent with our proposed threshold.

In addition to being consistent with our proposed intention, the one ton MeCl per year threshold is also relatively compatible with the requested volume-based levels requested by the commenter, assuming that lower-content MeCl strippers are used. For example, between 450 and 500 gallons of paint stripper containing 40 percent MeCl could be used and still remain below the one ton per year MeCl threshold.

Finally, while we appreciate the practicality of a threshold based on the purchase of 55-gallon drums, as discussed above, we have concluded that any volume-based threshold is not ideal. If owners and operators of paint stripping operators wish to remain below the threshold and avoid the requirement to develop a written MeCl minimization plan, we would suggest that they calculate the number of 55-gallon drums of stripper that they can utilize and still remain below the one ton level and plan accordingly.

Comment: Two commenters felt the number of affected paint stripping sources used to assess impacts in the proposed rule was too low. A commenter extrapolated information from California, Canada, and other sources to develop an estimate of sources affected by the proposed rule and commented that EPA's estimate of 3,000 sources was an underestimate. Using two methods to extrapolate from estimates of furniture stripping operations using MeCl-based strippers in California, one based on population and the other based on business statistics, they estimated that nationally, approximately 4,000 sources were involved in furniture stripping with MeCl-based strippers. Factoring in autobody shops use of MeCl-based strippers, the number of facilities affected is two to three times EPA's estimate of 3,000 firms. Additionally, a significantly larger number of firms would exceed the proposed 150 gallon threshold. As a result, the total cost of EPA's proposal would be significantly higher than estimated.

Response: Developing an estimate of the number of affected sources was a difficult portion of the analyses conducted, to arrive at the proposed rule and to estimate its impacts. Unlike source categories with large facilities, emission inventories were not as useful in arriving at an estimate of facility numbers. Further, this source category does not have an industrial trade organization to turn to for further information about the source category.

We appreciate the additional information on number of affected facilities provided by the commenters and considered the impacts of revising the population in the final rule. However, since little documentation was provided in support of the population estimate we have decided not to revise the estimate of sources. Finally, a change in the population totals affects the impacts proportionally and since we received no adverse comments on the assumptions and basis for our proposed impacts, which indicated a cost savings, we have decided not to revise the impacts and just rely on those at proposal as a worst-case analysis.

Comment: Several commenters asked for clarification on whether the rule applies to mobile automobile refinishers that perform spot repairs and other refinishing, such as fender and bumper repairs, at the customer's location, rather than in a conventional collision repair shop. Several other commenters also asked for clarification on whether motor vehicle refinishing coating operations (primarily refinishing of car bumpers and fenders) using “miniature” spray guns would be subject to the same standards as other motor vehicle refinishing operations. The commenters felt that surface coating with these miniature spray guns should be subject to the proposed standards, but felt that the final rule should clarify this applicability relative to operations done with air brushes. One commenter asked the EPA to increase the size of the spray cup allowed on air brushes that would be exempt from the standards.

Response: The proposed and final rule is intended to cover mobile motor vehicle refinishing operations that bring the coating equipment and supplies to the repaired vehicle, as well as those in which the vehicle is brought to a conventional collision repair shop. In the final rule, these mobile refinishers are subject to the rule requirements for training, spray equipment, and the use of a spray booth or other ventilated and filtered enclosure if they spray apply coatings from a spray gun with a cup size greater than 3.0 fluid ounces (89 cc). If they use a cup size equal to or smaller than 3.0 fluid ounces, they do not need to comply with the requirements for training, spray guns, and ventilated and filtered enclosures.

The proposed rule would not have applied to spray-applied coatings using an airbrush or spray gun with a cup size of 1.0 fluid ounce (30 cc) or less, and this was intended, in part, to address mobile repair and refinishing operations that performed repairs of small stone chips and scratches, and graphic artists and others using these small spray guns to paint motor vehicles, signs, or other items that are potentially subject to the rule. These touch up and repair operations, and graphic arts painting on vehicles, were not part of the original inventory that focused on collision repair shops and other types of motor vehicle and mobile equipment surface coating, so the source category does not include surface coating with small airbrushes, and such operations are not subject to this rule.

However, during the development of this rule, the EPA learned that more motor vehicle and mobile equipment surface coating that was formerly done by collision repair shops (and as such, was reflected in the source category listing) is now being done by mobile operators. Since this practice is becoming more common, the EPA has decided that this source of emissions should be regulated on the same basis as motor vehicle and mobile equipment surface coating that takes place at a fixed location. Even so, the EPA felt it was not necessary to regulate in this rule small touch up and spot repair operations done with an airbrush, because these operations were not reflected in the original inventory and source category listing.

Since the EPA could identify no single characteristic or group of characteristics to clearly differentiate a larger spray gun from an “air brush” we have decided to define applicability based on the cup size of the spray equipment. In the final rule, all motor vehicle and mobile equipment spray coating operations and miscellaneous surface coating operations with a cup size greater than 3.0 ounces (89 cc) would be subject to the applicable standards for painter training and equipment. Surface coating operations with a smaller cup size would not be subject to the standards for spray-applied surface coating operations since these are typically just touch up and repair surface coating.

This size (3.0 ounces or 89 cc) was selected based on a review of vendor literature for miniature spray guns and air brushes, and discussions with collision repair shop owners that commented on the proposed rule. This cup size is less than the minimum practical amount of coating that could be used to refinish a bumper or fender. Therefore, it helps distinguish those sources that are doing small scratch and spot repairs from those that are doing work that is more typically done at a collision repair shop.

Comment: Many commenters stated that the proposed requirements for miscellaneous surface coating operations, as written, could be interpreted to potentially apply to all surface coating operations beyond those associated with the manufacture of plastic and metal parts and products. Examples cited by the commenters included the spray application of adhesives that do not include any of the target HAP, the spray application of coatings in the manufacture of leather shoes, and the spray application of coatings in the restoration of wood furniture.

Several commenters also asked that the rule should specifically exclude surface coating operations that do not involve the use of spray-applied liquid coatings, since these operations have little potential for the target HAP emissions.

Other commenters noted that the proposed rule could also be interpreted to apply to the surface coating of buildings and other stationary structures, such as bridges, water towers, and stationary equipment at manufacturing and processing facilities. The commenters recommended that the rule include an exemption for facility maintenance surface coating, and for research and development activities, as is found in the major source surface coating rules. Other commenters added that quality control activities should also be exempt since these are often of the same scale as research and development activities and are conducted at coating manufacturing facilities that do not produce surface coated parts for sale.

Some commenters noted that it may be impractical to perform surface coating of large pieces of mobile equipment, such as some types of mining and farm equipment, in a spray booth or similar enclosure. The commenters suggested an exemption for these types of equipment that are generally coated in the field since it is not practical to move them to a dedicated facility for surface coating.

Response: The EPA agrees with the commenters that the rule was intended to only apply to surface coating on plastic and metal substrates and language has been added to clarify that the standards do not apply to other substrates, such as wood, leather, fabric, rubber, masonry, ceramics, concrete, or stone. Spray coating of these other substrates was not considered in the inventory on which the surface coating source category listing was based.

The rule has also been revised to specifically exclude surface coating that meets the definitions of “facility maintenance”, “research and laboratory activities”, and “quality control activities” in § 63.11180. Paint stripping and surface coating associated with these research and laboratory activities and quality control activities will not be subject to the standards as long as the items that are the subject of the surface coating or paint stripping are not products for commerce or for a function outside the facility, and do not leave the facility. For example, surface coating of test coupons in the manufacture of a coating to verify the final color of the coating is a quality control activity that is exempt from the rule because the test coupons are not products for commerce and are not intended to leave the facility. However, surface coating that is done to correct a defect or repair damage on a product that was detected as part of a final quality control check before the product leaves the factory is potentially subject to the rule.

“Facility maintenance” is defined to include architectural surface coating activities on stationary structures and process equipment. It is also defined to include the surface coating of mobile equipment in the field, such as farming or mining equipment, or mobile equipment coated at a site where it is used, such as a fork truck coated at a manufacturing facility. The surface coating of stationary structures in the field was not intended to be part of the miscellaneous surface coating source category and was not included in EPA's analysis in the development of the proposed rule. Similarly, the surface coating of process equipment including, for example, farming and mining equipment that is coated in the field, was also not intended to be part of the source category and was not included in EPA's analyses.

The definition of facility maintenance specifically excludes surface coating of motor vehicles, mobile equipment, or other items that routinely leave and return to the facility, such as delivery trucks, rental equipment, or containers used to transport or deliver products to customers. The paint stripping and surface coating of these latter items that routinely leave and return to the facility are subject to the standards for surface coating operations. Facility maintenance is limited to the paint stripping and surface coating of the infrastructure or process equipment of the facility. Items that routinely leave and return to a facility are not considered part of the facility's infrastructure or process equipment.

The final rule includes definitions of “coating” and “spray-applied coating operations” that include lists of materials and activities that are not subject to the final standards for either motor vehicle and mobile equipment surface coating, or for miscellaneous surface coating operations.

The definition of “coating” excludes the following materials because they either do not contain the target HAP, they are not spray-applied,or, if they are spray-applied, they are applied in larger particles that settle near the source and are not emitted and are not sources of the target HAP for which the surface coating categories were listed:

• Decorative, protective, or functional materials that consist only of protective oils for metal, acids, bases, or any combination of these substances.

• Paper film or plastic film that may be pre-coated with an adhesive by the film manufacturer.

• Adhesives, sealants, maskants, or caulking materials.

• Temporary protective coatings, lubricants, or surface preparation materials.

The definition of “coating” also excludes in-mold coatings, typically gel coatings, that are spray-applied in the manufacture of reinforced plastic composite parts. Gel coats are part of the fabrication process for reinforced plastic composites, and were considered in separate processes when the EPA developed the inventory which served as the basis for the source category listing.

The definition of “spray-applied coating operations” excludes several operations that were not considered part of the inventory that was the basis for the source category listing. These excluded operations are not subject to the rule. As described earlier in this section, coatings applied from a spray gun or air brush with a paint cup capacity that is equal to or less than 3.0 fluid ounces (89 cc) are not included because they are primarily used for touch up and repair operations.

Surface coating application using powder coating, hand-held, non-refillable aerosol containers, or non-atomizing application technology, including, for example, paint brushes, rollers, hand wiping, flow coating, dip coating, electrodeposition coating, web coating, coil coating, touch-up markers, and marking pens are not included because they do not atomize coating, so they are not sources of the target HAP emissions from the spray application of coating.

The definition of spray-applied surface coating operation does not include thermal spray operations (also known as metallizing, flame spray, plasma arc spray, and electric arc spray, among other names). In these operations, solid metallic or non-metallic material is heated to a molten or semi-molten state and propelled to the work piece or substrate by compressed air or other gas, where a bond is produced upon impact. These are inorganic coatings (conductive metals) that were not considered part of the source category. In addition, although they are metals (usually zinc or aluminum), they do not contain the target HAP of concern for which the miscellaneous surface coating category was listed. In addition, the metal particles created are larger than those created in spraying liquid organic coatings and are less likely to be emitted.

Comment: One commenter asked that the applicability be revised to specifically exclude surface coating operations on space vehicles so as to parallel the applicability of subpart GG, the major source NESHAP for Aerospace Manufacturing and Rework Facilities.

Response: The EPA agrees with the commenter and has revised § 63.11170 to specifically exclude surface coating on space vehicles from the standards for miscellaneous surface coating in the final rule. However, paint stripping operations on space vehicles using MeCl would still be subject to the standards in the final rule. Paint stripping on space vehicles is regulated at major sources by subpart GG.

B. Compliance Date

Comment: Several State agency commenters requested existing sources be given three years to comply rather than two years. They contend that more time is needed for State and local agencies to identify all subject sources and perform the needed outreach activities, and for the sources to have time to get all of their painters trained and to purchase and install any needed equipment. Sources may be difficult to identify and unfamiliarity with the rules is likely to be widespread because the sources are small businesses, with frequent employee turnover and changes in ownership. Commenters added that most other air toxics regulations allow existing sources three years to comply and this rule should be consistent to allow time for outreach.

Response: EPA has revised the proposed rule to allow existing sources three years to comply. EPA agrees that the State agencies and other commenters have provided sufficient justification that three years is needed. There is a lack of readily available information to identify all of the area sources that are subject to the rule. Many of the area sources covered by the rule are small and have not previously been subject to air pollution control rules. Therefore, implementing agencies will need time to widely publicize these rules, develop outreach materials, and perform outreach though a variety of channels in order to inform sources that they are subject to the rule. In addition, many small sources are likely to require assistance in determining applicability, identifying the necessary steps to achieve compliance including, but not limited to locating and registering for painter training. Section 112 of the CAA allows up to three years for existing sources to comply, and given the characteristics of the source category, three years is a reasonable compliance time for this rule.

C. Requirements for Paint Stripping Operations

Comment: Two commenters provided positive feedback on the proposal of Generally Available Management Practices as GACT, agreeing that development of a MeCl minimization plan is a good idea. They added that the plan would make sources more aware of the impacts of certain practices and require them to develop alternate ways to perform paint stripping operations without the use of MeCl. Another supported the EPA's focus on management practices to reduce emissions of MeCl from paint stripping operations rather than on what they termed inappropriate technology requirements or alternative stripping techniques.

Response: Like the commenters, we believed that it was most appropriate to place the decisions on the feasibility of alternatives to MeCl strippers at the feet of those who know their business best. Therefore, the final rule retains the proposed requirements that owners and operators institute management practices to reduce MeCl emissions from paint stripping.

Comment: There were several comments received that discussed the need for MeCl for stripping and expressed doubt at the plausibility of alternative technologies. A commenter remarked that in many cases, products containing MeCl are the only effective means of removing certain finishes, such as polyurethanes and most paints, for commercial operations. Another stated that, in their department's experience, most chemical paint stripping operations were dedicated to stripping paint from wooden furniture. They noted that the proposed management practice of recoating without stripping or substituting alternative stripping technologies was not a possibility for painted wood. Owners of a small business dedicated to restoring furniture, commented that for furniture restoration shops to reduce their MeCl use, there would have to be better alternative chemical strippers available. MeCl strippers are not flammable, but the current alternative chemical strippers are highly flammable and explosive. In addition, the current alternative chemical strippers cost two to three times those containing MeCl, and take two to five hours to work versus 15 to 20 minutes for those containing MeCl. Another commenter supported the EPA's proposal to allow the facility to determine whether a MeCl-based product was appropriate for the particular paint stripping task. They provided a comment that quotes from the preamble to the proposed rule that the evaluation criteria in the management plan would involve “only using MeCl-containing paint stripper when an alternative on site stripper method or material is incapable of accomplishing the work as determined by the operator.”

Response: The rule does not limit or ban the use of MeCl-based paint strippers. The rule also does not say when a facility can use or cannot use MeCl-based paint strippers. Instead, the rule encourages operations to think of ideas specific to their operation where alternative stripping technologies can be employed. The facility has the obligation to determine whether and when it can most effectively substitute alternative technologies for MeCl-containing stripper. In some cases a facility may find that MeCl strippers may currently be the only feasible choice; however, in other cases these strippers may currently be used as a matter of routine and suitable alternatives can be used instead.

The basis of the rule is to consider, and when possible, to use alternative stripping techniques. There are situations where alternative stripping methods can be employed successfully. Examples of alternative techniques for wood include sanding off the top layers of paint and using a smaller amount of MeCl-containing stripper to remove the remaining paint. Another would be to sand the flat surfaces and use the MeCl-containing stripper to remove the paint from only certain areas such as carvings or joinings.

D. Authority To Regulate Miscellaneous Surface Coating Operations

Comment: A commenter argued that plastic parts and product surface coating should not be listed as an area source of the specific heavy metals in urban areas. The commenter stated that the major source rule for plastic parts surface coating (40 CFR Part 63 subpart PPPP) did not regulate heavy metal emissions and did not require the use of spray booths. The commenter also stated that heavy metals were not mentioned in the proposed or final major source rule. The commenter also contended that the listing of plastic parts and products was not consistent with EPA's stated policy for listing sources of HAP (64 FR 38720, July 19, 1999) and heavy metal HAP (64 FR 38722). The commenter further stated that the analysis in the preamble to the proposed area source rule indicates that plastic part surface coating sources account for only about 700 pounds a year, or between 0.15 percent and 0.33 percent of total area source heavy metal emissions. The commenter requested EPA to change the listing decision and remove plastic parts coating operations from the rule.

Response: The listing and regulation of plastic parts and products (surface coating) for the targeted metal HAP is consistent with CAA requirements. Sections 112(c) and 112(k) of the CAA instruct EPA to identify and list area source categories accounting for at least 90 percent of the emissions of the 30 listed HAP (referred to as “urban HAP”) (64 FR 38706, July 19, 1999). One of the listed area source categories is plastic parts and products (surface coatings). The commenter provides no information indicating that this listing was inappropriate.

In the 1999 final urban air toxics strategy notice, we listed 16 area source categories including paint stripping. Each of these categories accounted for at least 15 percent of at least one of the 30 urban HAP. See 64 FR at 38720. But, as indicated in that notice, the initial list of area source categories did not account for 90 percent of several of the HAP, including six metal HAP (64 FR 38722, July 19, 1999). That notice announced EPA's intent to study additional area source categories and complete the list of area source categories by 2003.

In June 2002, we listed several additional area source categories including autobody refinishing (67 FR 43122, June 26, 2002). That listing, however, still did not meet the requirement to list area sources representing 90 percent of the area source emissions of each of the 30 HAP. In the urban air toxics strategy, EPA indicated we would be adding additional area source categories as necessary to meet the 90 percent requirement.

Consequently, in November 2002, we listed 23 additional area source categories including plastic parts and products (surface coating) (67 FR 70428, November 22, 2002). Each of these listed categories contributes some percentage of emissions of one or more of the 30 urban HAP. The plastic parts and products (surface coating) area source category was listed for cadmium, chromium, lead compounds, manganese, and nickel compounds. In order to meet the 90 percent requirement for each of the 30 urban HAP, we had to list many categories that individually contributed only a small percent of the target HAP.

This history and the CAA requirements for area sources explain why the metal urban HAP are the target of the surface coating portion of this area source rule. We are required during rule development to regulate emissions of the target urban HAP from surface coating area sources. Under section 112(d) area source regulations may be based on GACT rather than MACT, which is required for major sources. In this rule we have established emissions standards that represent GACT for the source categories. The commenter has provided no information questioning the GACT determination in the proposed rule.

Comment: One commenter stated that the rule should not regulate surface coating on metal parts and products as part of the miscellaneous surface coating source category because it was not listed as an area source category. The commenter noted that the category included in the final notice for the list of source categories in November 2002² was “plastic parts and products (surface coating).” The commenter also noted that the description of this source category in supporting documents for that listing includes industrial classification codes only for plastic parts and products. However, the commenter notes that the standard industrial classification code for miscellaneous metal surface coating (SIC 3479) was included in the source category description for “autobody refinishing paint shops.”

² 67 FR 70427 (November 22, 2002).

Response: The EPA's decision to list plastic parts and product (surface coating) as an area source category was based on analysis of emissions data from over 20 different SIC codes that represent manufacturers of parts and products that contain both metal and plastic substrates. These included, for example, architectural metal work; games, toys, and childrens' vehicles; motor homes; motor vehicle parts and accessories; motor cycles, bicycles, and parts; musical instruments; transportation equipment not elsewhere classified; and truck and bus bodies. These analyses were documented in “1990 EMISSIONS INVENTORY OF FORTY POTENTIAL § 112(k) POLLUTANTS, SUPPORTING DATA FOR EPA'S § 112(k) REGULATORY STRATEGY, Final Report” (May 21, 1999). A copy of the relevant portions of this document has been included in the docket for this final rulemaking.

Since the analysis of the inventory included a broad sampling of both metal and plastic surface coating that were identified as sources of the target HAP, the EPA is regulating both metal and plastic surface coating operations in the final rule. To more accurately reflect the scope of the regulated operation, we refer to them in the final rule as “miscellaneous surface coating operations” and describe them more completely in the applicability section of the final rule.

E. Basis of Surface Coating Standards

Comment: Some commenters believed that the requirements for spray booths and painter training, particularly applied to very small miscellaneous surface coating operations and those that apply coatings to large parts or subassemblies, are beyond GACT. Some commenters suggested that EPA should collect additional information on the types of spray equipment and practices being used, coatings being employed, and product rates at small sources. They claim that the requirements for spraying automotive coatings do not necessarily carry over well to the miscellaneous surface coating operations. Other commenters supported the proposed standards as GACT.

Response: The EPA disagrees that spray booths and painter training are beyond GACT for sources using coatings containing the target HAP. The analyses performed in support of the proposed rule demonstrate that painter training and filtered spray booths are both commonly employed by miscellaneous surface coating sources of all sizes.

However, the EPA has revised the proposed rule such that painter training and spray booths are only required for miscellaneous surface coating operations that spray apply coatings that contain the target HAP. Miscellaneous surface coating operations that do not use coatings that contain the target HAP will not be subject to these requirements. However, all motor vehicle and mobile equipment surface coating operations would still be subject to the requirements of the final rule.

F. Training Requirements

Comment: Several commenters felt that the training standards could be interpreted to apply to all painters, and those standards should only apply to spray coating operations. Painters in non-spray coating operations should not be required to complete training. Other commenters noted that training would not benefit the operators of automated or robotic surface coating operations, and these operations should be exempt from the training requirements.

Response: The rule has been clarified, as suggested by several commenters, to clearly apply only to painters that spray apply coatings using hand-held devices. Painters using brushes and rollers, and other non-spray application methods, are not subject to the training requirements. In addition, all automated and robotic surface coating operations are not required to meet these requirements since these operations are not considered part of the intended source category. Automated operations are typically performed in a booth, are part of a production line operation with similar, if not identical, parts, and often result in high transfer efficiency.

Comment: One commenter suggested that painting is an art form not possessed by everyone and a test and certification should not be used to dictate who works as a painter. Another painter asked whether the rule would include a grandfather clause that would exempt experienced painters based on their length of time in the business or years experience painting. One commenter suggested that retraining every five years is not needed because of the daily experience of painting.

Response: The EPA agrees that spray painting is a skill that is not easily mastered, and that shop owners will avoid hiring and keeping poorly performing spray painters. However, information collected by EPA in development of the proposed rule has shown that even experienced spray painters can improve their transfer efficiency and reduce emissions and paint consumption through appropriate training. Therefore, the final rule retains the training requirement for all spray painters at motor vehicle and mobile equipment surface coating operations, and for all spray painters that use coatings containing the target HAP at miscellaneous surface coating facilities.

The final rule will allow painters who have completed formal training in the past five years to use that training to demonstrate compliance. Refresher training is retained in the final rule since it is important to ensure that painter techniques do not revert back to those that were used before training, and also so painters can be brought up to date on current technologies.

Comment: One commenter suggested that the rule should allow 180 days after hiring for new painters to be trained, instead of 60 days, as well as for new painters at existing facilities.

Response: The EPA agrees and the rule has been revised to allow 180 days after hiring, or after completing a transfer within a facility to a painting job, for new painters to complete the prescribed training.

Comment: Several commenters were concerned about the availability of training and the suitability of training for the particular type of surface coating that they perform, or the type of workforce they have. Some commenters noted that their painters may not speak English, or be able to perform well in a typical classroom setting or in a testing environment. In these cases, a formal certification may be difficult for their painters to achieve. One commenter noted that inmates participating in prison industries could not be sent to outside training. Other commenters were concerned that training should not be limited to any one type of program or it could create a limited market of providers and costs may not be affordable for small shops. They suggested that the rule language should be more specific about the criteria that would indicate a training program meets the minimum requirements.

Response: The EPA agrees that training should not be limited to any one provider or a small number of providers, and should be available and affordable for all sizes and types of shops. The final rule includes additional detail on the training requirements so that alternative training programs can be developed that meet the minimum requirements and meet the particular needs of different types of shops. For example, the EPA recognizes that some larger employers may wish to develop in-house training programs that are focused on the materials, products, and procedures used at a particular facility.

The final rule does not specify that any one training provider or program must be used. The final rule allows flexibility for the best training environment and certification process that an owner or operator can identify for their particular work site that meets the requirements in the final rule. The training requirements have been revised to allow for in-house training programs and for successful completion of a training program to be certified by the owner of the facility.

Comment: Several commenters suggested that if the EPA is expecting industry to provide certification or training programs, the rule should make provisions for a certifying agency or program certification procedures. One commenter asked whether training programs would need to meet a set of standards, and whether a manufacturer, trade school, or consultant would be required to submit curriculum to EPA for prior approval. Another commenter recommended that training programs used to meet this regulation should be validated or certified by an independent clearinghouse. The commenter suggested that EPA should delegate this responsibility to a proven program that has a history of developing and providing paint technician training, since the EPA does not have the necessary painting experience to do this.

Response: The EPA does not believe that it is necessary to establish or designate a body to certify or approve training programs to comply with the requirements in the final rule. The final rule includes sufficient detail on the training requirements so that training programs can be developed that meet the minimum requirements. The EPA feels that painters and the shops that employ them are the most appropriate judge of different training programs, due primarily to the economic benefit they can realize through good training. Since the shop owner or the painter will need to absorb the initial cost of training (even though it should represent a coating cost savings in the long run), it will be up to painters and shops to identify and evaluate training programs that best meet the requirements of the final rule and which seem to be the best investment of their time and resources. To the extent that additional guidance on the training requirements in the final rule is needed, the EPA will work with all affected parties to develop that guidance.

G. Spray Gun Requirements

Comment: Several commenters state that a number of spray coating applications cannot be accomplished using HVLP, electrostatic guns, or equivalent techniques. Two commenters stated that EPA determined during the development of the NESHAP for Aerospace Manufacturing and Rework Facilities (40 CFR 63, subpart GG) and other major NESHAP rules that high solids coatings cannot be applied using HVLP, or equivalent methods.

Response: The final rule includes the same exemptions from the HVLP requirements for aerospace manufacturing and rework facilities as subpart GG. The rule was revised to exempt any situation that normally requires the use of an airbrush or an extension on the spray gun to properly reach limited access spaces; the application of coatings that contain fillers that adversely affect atomization with HVLP spray guns, and the application of coatings that normally have a dried film thickness of less than 0.0013 centimeter (0.0005 in.). The technical basis for these allowances for aerospace surface coating operations was established in the development of subpart GG. Since there is no technical difference between these aerospace surface coating operations at area and major sources (aside from the relative size of these operations), the EPA is including the same allowance in the final rule as found in subpart GG.

Comment: Several commenters requested that airless and air-assisted airless spray guns should be considered equally efficient and equivalent to HVLP, and requested that EPA treat airless spray equivalent to HVLP for the purpose of this rule. One commenter stated that airless spray operations are very common for most miscellaneous parts surface coating operations and should be considered as a viable and authorized option.

Another commenter provided an example of a structural steel facility that uses a high viscosity, high solids coating as being an operation that could not employ HVLP spray guns. The commenter stated that such operations generally use airless spray guns to apply high-viscosity, high solids primers.

Another commenter stated that while HVLP spray guns and gravity fed supply lines are well suited for the automotive refinishing industry, pressure fed application equipment is best suited and typically used in other miscellaneous sectors. Other sectors use coatings that have characteristics much different from automotive coatings. Quite often, these coatings are higher in viscosity because of higher solids content, compared to automotive coatings.

Response: The final rule requires that miscellaneous surface coating operations are only required to employ HVLP, or equivalent, spray guns if they are spraying coatings that contain the target HAP. Motor vehicle and mobile equipment surface coating operations must use HVLP or equivalent spray guns for all surface coating. The rule was also revised to allow airless and air-assisted airless spray guns as alternatives to HVLP. Airless and air-assisted airless spray guns are used in some applications instead of HVLP spray guns because they are more suited to spraying higher solids coating, such as in the fabrication of large structural steel components, and in applying coatings to ships and other marine items. In these cases, HVLP spray guns are not feasible because of the viscosity of the coating, and airless and air assisted airless spray guns are the most efficient means to spray apply these coatings.

H. Spray Booths

Comment: Several commenters stated that requiring spray booths is not practical, realistic, or economically feasible for some facilities performing coating on work pieces that are too large to fit in a booth such as large structural metal work pieces, fixed equipment, structural steel, and large mobile equipment.

Several commenters also stated that requiring spray booths for these types of operations would make the rule more stringent than the MACT rules for the corresponding industries. One commenter provides an offshore drilling rig as an example of mobile equipment that is too large for a spray booth. Two commenters requested that the rule include an exemption for the surface coating of oversized parts.

Response: The proposed rule was revised so that it does not apply to miscellaneous surface coating operations that do not spray apply coatings that contain the target HAP. The proposed rule was also revised to clarify that it does not apply to facility maintenance of fixed equipment and architectural surface coating of stationary structures.

The final rule has not been revised to specifically exempt the surface coating of large objects from the spray booth requirement. However, the surface coating of large objects would not be subject to the requirements of the final rule if the coatings that are spray applied do not contain the target HAP, the surface coating operation of the object met the definition of facility maintenance, or the surface coating was done using non-spray application methods. The EPA believes that the surface coating situations described by the commenters involving large objects all fall into at least one of these categories. Therefore, they would not be subject to the requirement to use a spray booth and an exemption for large objects is not specifically required by the information provided by the commenters.

Comment: Three commenters expressed concern regarding the language requiring negative pressure paint booths. The reason for this concern is that for critical finishes, such as automotive surface coating, negative pressure may cause airborne dust and dirt to be drawn into the booth and mar the finish. As a result, downdraft paint booths used for automotive surface coating are usually ventilated at slight positive pressure so that contaminants are kept out of the booth, although door seals and filtration systems are still used to protect air quality. One commenter suggested that in applications that require a dust/dirt free finish, and where the spray booth is totally sealed and the booth control system utilizes an automatic pressure balance system, spray booths should be allowed to operate at up to, but not more than, 0.05 inches water gauge positive pressure.

Response: The final rule was revised to allow for downdraft spray booths that are balanced at slight positive air pressure and incorporates the recommended language. The EPA observed several spray booths of this configuration during site visits in the development of this rule and agrees that with appropriate door seals and filtration systems these booths are as protective of the environment as booths operated at negative pressure.

Comment: Several commenters stated that the EPA has understated the impacts of the proposed requirement to use a spray booth for all spray finishing operations. The commenters noted that EPA did not assign any costs to the requirement to use a spray booth because the EPA had assumed that spray booths would already be required in order to comply with OSHA standards for spray finishing operations under 29 CFR 1910.94(c). The commenters argued that OSHA standards require a spray booth only if certain exposure conditions are met, and these exposure conditions can be avoided with, for example, the use of waterborne coatings or outdoor spraying operations. Other examples of spray coating operations that can be conducted outside of a filtered spray booth in compliance with OSHA include automotive undercoating, areas of low coating use with adequate ventilation, powder coating, waterborne products, and touch-up and repair coating.

Response: The EPA acknowledges that there are situations in which OSHA does not require surface coating to be performed in a filtered spray booth. That being noted, the rule was revised to clarify that the scope of the source category does not include miscellaneous surface coating operations if the coating being used does not contain the target HAP, facility maintenance surface coating and other architectural surface coating of stationary structures, powder coating and the spray application of coatings from a spray gun with a cup size equal to or less than 3.0 fluid ounces (89 cc). Given the clarified scope of the surface coating operations that are subject to the spray booth requirements in the final rule, the EPA believes that there is a substantial overlap between the operations that would be performed in a spray booth to comply with OSHA standards for spray finishing operations and those that would be required to do so by this rule. Therefore, the EPA does not believe that we have substantially underestimated the cost of the final rule.

Comment: Two commenters pointed out that EPA did not address enclosing automated or robotic spray systems in a spray booth. One commenter stated that the costs for doing so could be very high and requested that EPA exempt all fixed point automatic spray installations from this rule.

Another commenter stated that the proposed rule did not include language that addressed spray booth configurations with openings for conveyor lines that carry parts through a booth. The commenter suggested that the openings for conveyors would be equal to no more than the area of the open face of a three-sided spray booth.

Response: The rule was revised to clarify that automated or robotic spray operations were not considered within the scope of the source category, as the source categories for surface coating were intended to cover coating that is spray applied using hand-held devices.

The EPA acknowledges that miscellaneous surface coating operations may be spray applying coatings that contain the target HAP using conveyor line configurations, and the rule was revised to account for openings needed on side walls and roofs of spray booths to accommodate the conveyor lines.

Comment: One commenter noted that spot repairs on automobiles can be performed using commercially available portable extraction systems. One such system consists of a ring that is placed around the area to be repaired. The ring is hollow and is attached to a ventilation system so that air and overspray are drawn into the ring placed around the area being repaired. The commenter asked whether this would be an acceptable alternative to a spray booth for small spot repairs.

Response: The EPA reviewed the product information cited by the commenter and agrees that portable or mobile enclosures and extraction systems such as the one cited by the commenter are reasonable alternatives to a full size paint booth for small repairs. The paint booth requirements in the final rule have been revised to allow for the use of portable enclosures and extraction systems that can be used to enclose only the area being refinished in a spot repair. The enclosure would still need to be ventilated so that air is drawn into and paint overspray is captured by the enclosure, and it would also need to meet the same requirements for spray booth filters as full size spray booths.

I. Spray Booth Filters

Comment: Several commenters stated that requiring facilities to demonstrate compliance by testing for filter efficiency places an undue burden on any facility attempting to use a more efficient filter. Vendor guarantees or specifications should be sufficient for compliance.

Response: It was the intent of EPA that filter specifications or filter performance data provided by the filter manufacturer would suffice for the purpose of compliance in the proposed rule. The final rule clarifies that records of manufacturer specifications or vendor supplied or published data are sufficient for demonstrating compliance with the filter efficiency requirement. Operators are not expected to have to perform the test since it is usually done by the filter vendors.

Comment: One commenter stated that waterwash filters were not discussed in the proposed rule. The commenter requested that EPA assess the acceptability of water wash booths as a control technology for overspray.

Response: The final rule was revised to state that waterwash spray booths will be acceptable for the purposes of complying with the rule as long as they are used and maintained according to manufacturer specifications and consistent with good air pollution control practices. Although many waterwash spray booths have been replaced or retrofitted with dry filters, there are some applications where waterwash spray booths are still the most practical technology to control paint overspray. Since EPA believes that properly operated and maintained waterwash spray booths are nearly as efficient as required by this rule for dry filters and it would not be cost-effective to require retrofitting with dry filters, considering the potential limited increase in capture efficiency, the final rule provides for the use of waterwash spray booths, but requires that they be operated and maintained according to the manufacturer's specifications.

Comment: One commenter stated that the paint overspray filter criteria are inconsistent. The commenter requests that if 98 percent overspray filter efficiency is the criteria, then it should be required for all paint overspray filters. The commenter speculated that by stating in the regulation that any fiberglass or polyester filter is acceptable, the practice of using cheap, low efficiency furnace filters could grow. The commenter suggested that specifying a minimum filter efficiency of any medium would be more effective at reducing particulate emissions.

Response: The final rule was revised so all spray booth dry filters, regardless of media, are required to meet the 98 percent efficiency standard. The rule was also revised to clarify that records of manufacturer's specifications or filter performance data are sufficient for demonstrating compliance with this performance level.

J. Spray Gun Washers

Comment: One commenter stated that the need for enclosed spray gun washers may be over emphasized since the intent of the rule is to prohibit the atomization of solvent through the gun into the air. Although the proposed rule indicates that spray equipment may be dismantled and cleaned in lieu of a gun washer system, this alternative seems overshadowed by the gun wash option and may be lost in the rule interpretation. Other commenters reported that some commercially available enclosed gun washers were less efficient and more difficult to use and maintain than simply disassembling a spray gun and cleaning it by hand in a container of solvent.

Two commenters stated that the rule should allow for equipment to be cleaned by spraying a non-HAP containing solvent through the applicator outside of an enclosed gun washer.

Response: The final rule was revised to clarify that if washing a gun, an affected facility is prohibited from spraying cleaning solvent through the gun in a way that creates an atomized mist that is not captured. The intent of this requirement is to prevent the emission of the target HAP that is in the paint residue that remains in the spray gun. The EPA agrees that an enclosed gun washer is not needed to meet this objective. To comply, you may, for example, clean a disassembled gun by hand in a bucket or vat, flush solvent through the gun without atomizing it and capturing the solvent in an enclosed container, or use an enclosed manual or automatic gun washer. The final rule does not require the use of an enclosed gun washer, but identifies an enclosed gun washer as one compliance option in addition to the other options suggested by the commenters.

K. Reporting, Recordkeeping, and Compliance

Comment: A commenter felt that it would be more suitable for sources to keep the MeCl minimization plan for paint stripping operations on site rather than submitting it to the State and EPA. They stated that States and EPA would not have the time or resources necessary to review the plans, and that they were unsure what kind of review/approval process should be used. Another commenter stated that since the proposed standard imposes management practices rather than emissions limits, it is not clear what aspect of their compliance activity sources would need to report. They suggest that beyond the initial report, the only reporting that should be necessary would be a change in status relative to the threshold level for developing a MeCl minimization plan.

Response: The development and implementation of the MeCl minimization plan is designed to reduce MeCl usage and emissions at the facility level. In the proposed rule, the requirement to submit the MeCl minimization plan was included to ensure that there would be oversight of facilities' plans. However, EPA understands the commenter's point that the value of submitting them to the State or EPA would likely not offset the burden of time and resources for submittal and review. As a result, the final rule was revised so that it does not require facilities to submit their plans to State or local agencies, or the EPA. The final rule requires them to keep their plans on site and to include a statement in their initial notification or notification of compliance that they have developed their plans and met the requirements associated with the MeCl minimization plan. The final rule also includes a requirement for facilities to review their plans annually and to make changes as appropriate based on their experiences in the previous year. Documentation of this review will also replace the proposed rule requirement to submit annual compliance reports to the permitting authority. While the final rule does not require submission of the MeCl minimization plan, facilities that are required to develop plans must still submit an initial notification and a notification of compliance, and meet annual MeCl minimization plan review, revision, and recordkeeping requirements.

Comment: One commenter indicated the annual reporting time and costs appeared to be underestimated unless simple materials are developed to help streamline the efforts of small businesses to complete this reporting. The commenter predicted that small businesses would spend closer to 15 hours or more to develop something on their own and to compile all the information alone would probably take six to eight hours. If a small business owner tries to minimize his or her time spent on the report, they would have to hire a consultant at $100 per hour or more. The consultant may take just six hours to complete the work, but that total cost would be $600 instead of $219, according to the commenter. Other commenters also indicated that the reporting burden had been underestimated.

Some commenters questioned whether EPA had considered the cost to EPA, State, and local implementing agencies to perform outreach and assist sources to comply, receive initial notifications, conduct field inspections, and process annual certifications.

Some commenters also said that initial notifications, compliance status notifications, and annual compliance reports would place an undue burden on facilities and State agencies. One commenter suggested allowing sources to maintain records of compliance on site and make them available upon request for local, State, or Federal inspection without submission of annual reports. Another suggested the following for autobody refinishing shops: Combine the initial notification with the notification of compliance status, eliminate the annual reports, keep file copies of training certifications for currently employed painters, eliminate some other records including records of deviations, and possibly the requirement to keep records for five years.

Response: The EPA has revised the rule to reduce the notification and reporting burden to sources and the burden to State and local agencies receiving the notifications and reports, while still retaining information needed to implement and enforce the rule. In particular, the final rule does not require facilities to submit annual compliance reports. Therefore, after the one-time initial notification and notification of compliance status (if needed), there will be no regular annual reporting burden to sources, and the implementing agencies will not need to review and track thousands of annual compliance reports. Sources will only need to submit a report if there is a change in the information contained in the initial notification, notification of compliance status, or a previous annual notification of changes report. This is a reasonable approach that reduces the burden on regulated sources, but provides EPA and delegated States with necessary compliance information. If there are no changes in a given year, the report would be identical to what was previously submitted, either in an earlier annual report, in the initial notification, or in the notification of compliance status. Therefore, EPA believes it is appropriate to require a report only if the relevant information has changed.

Sources will still be required to submit an initial notification that they are subject to the rule. The notification contains a very brief description of the operation that is subject to the rule; however, the type of information that should be included is minimal, clearly explained in the rule, and should be readily available to the owners and operators of motor vehicle and mobile equipment surface coating shops, or miscellaneous surface coating operations.

The initial notification is needed so that implementing agencies will have a list of sources that are subject to the rule and will know with which part of the rules each source must comply (e.g., surface coating or paint stripping). This is necessary so that implementing agencies can target outreach, inspection, and enforcement efforts.

In addition, sources will continue to be required to keep the proposed records to demonstrate compliance. These records are limited to painter certification records, documentation of spray booth filter efficiencies (which are expected to be supplied by the manufacturer), documentation from spray gun manufacturers (only if the source is using a spray gun other than the types listed in the rule), records of usage of paint strippers containing MeCl, and records of deviations from the rule requirements. The content of the required records is clearly explained in the rule, and the records can be kept in whatever format is easiest for the shop (hard copies or electronic). These records are the minimum level of information needed for an inspector to determine if a source is complying with the rules.

The EPA has not reduced the amount of time that records must be retained. The records that must be retained are minimal and reducing the time they are kept from five years to two years would not affect the burden of storing these minimal records. In addition, the longer record period is the minimum needed to verify compliance with the training requirements since refresher training is needed every five years. The longer record period is also needed to ensure that paint stripping sources that have to complete a MeCl minimization plan are consistently reviewing and updating the plan on an annual basis.

L. Cost and Economic Impacts

Comment: Several commenters said that the number of area sources that perform miscellaneous surface coating is much larger than EPA estimated. These estimates were based on the number of miscellaneous surface coating sources known to regulatory agencies in different States. The commenters estimated that the total number of sources subject to the rule could be about 200,000 nationwide, and many of these could be small businesses. Another commenter believed that EPA has not met the criteria needed to certify that there will not be a “significant impact on a substantial number of small entities” (SISNOSE) as needed under the Regulatory Flexibility Act (RFA) and has underestimated the cost and economic impacts because the rule would require many sources to install spray booths and obtain operator training.

Response: The EPA agrees that the number of sources that could have been affected by the proposed rule, if interpreted to apply to all miscellaneous surface coating operations, was higher than estimated at proposal. However, the EPA has revised the final rule to clarify the intended sources to which it would apply, and to reduce the actual number of affected sources subject to the rule. Miscellaneous surface coating facilities that do not spray apply coatings that contain the target HAP will not be subject to the final rule.

The EPA believes that these changes in the final rule will more accurately reflect the number of sources that are potentially subject to the rule, and for which the proposed economic impacts were based, since only a fraction of miscellaneous surface coating sources use coatings that contain the target HAP. Based on the datasets available to EPA for the miscellaneous surface coating source category and additional information submitted by several commenters, EPA estimates that less than 10 percent of the total population of sources are spray applying coatings that contain the target HAP. In addition, many miscellaneous surface coating sources that are currently using coatings that contain the target HAP may be able to avoid being subject to the rule by either switching to coatings that do not contain the target HAP, or switching to non-spray application technology. Based on these changes, the EPA believes that the rule will not have an adverse impact on those facilities.

VI. Summary of Environmental, Energy, and Economic Impacts

The EPA estimates that about 39,000 establishments performing paint stripping, motor vehicle and mobile equipment, or miscellaneous surface coating operations would be subject to the final rule. We estimate that about 3,000 of these establishments are paint stripping facilities and 36,000 establishments are surface coating operations. The majority of these surface coating establishments (about 35,000) are involved in motor vehicle and mobile equipment refinishing, and employ about 263,000 people, of which about one-third are painters.

A. What are the air impacts?

Paint Stripping Operations

The baseline MeCl emissions from paint stripping operations are estimated to be 3,800 tpy. Around 500 tpy is estimated to be emitted from the approximately 2,000 facilities that annually use paint stripper containing one ton of MeCl or less. The remaining 3,300 tpy is estimated to be emitted by the approximately 1,000 paint strippers that annually use paint strippers containing more than one ton of MeCl and who would be required to develop a MeCl minimization plan.

Miscellaneous Coating Operations

The baseline emissions from the surface coating operations are estimated to be about 38,000 tpy of HAP, including 12.4 tpy of inorganic HAP (e.g. Pb and Cr-VI compounds). In addition to the HAP, baseline emissions of criteria pollutants are estimated to be 3,100 tpy of particulate matter (PM) from paint overspray and 120,400 tpy of volatile organic compounds (VOC) from coating and solvent evaporation.

Implementation of the final standards would achieve a reduction of 6,900 tpy of HAP from surface coating operations, including about 11.4 tpy of inorganic HAP. In addition to the HAP, we estimate PM reductions of about 2,900 tpy and VOC reductions of about 20,900 tpy. These reductions would occur as a result of reduced use of HAP-containing solvents and coatings, increased use of filtered spray booths to capture overspray, increased spray painter training, and use of HVLP or equivalent guns to improve transfer efficiency and to reduce coating overspray and paint consumption. Additional detail on these calculations are included in the public docket for this rulemaking.

B. What are the cost impacts?

Paint Stripping Operations

We estimate that the final standards for paint stripping operations will result in an initial cost of around $1,500,000 and a net savings in annual costs. This includes an estimated initial cost of $490,000 and annual costs of $80,000 for the nearly 2,000 paint strippers who annually use paint stripper containing one ton of MeCl or less. Initial costs for the approximately 1,000 paint strippers who annually use paint strippers containing more than one ton of MeCl, who would be required to develop MeCl minimization plans, are estimated to be just over $1 million. The annual costs for those plants are estimated to be a net savings of $910,000.

For the nearly 2,000 paint strippers who annually use paint strippers containing one ton of MeCl or less, switching to alternative non-MeCl paint stripping methods comprise most of the costs.

The costs for the approximately 1,000 paint strippers who are required to develop MeCl minimization plans are attributable to the development and implementation of the MeCl minimization plan. Annual costs will include an estimated $400,000 for the development and implementation of the MeCl minimization plan and an estimated $450,000 associated with switching paint stripping technologies. Annual savings resulting from the implementation of the MeCl minimization plan include an estimated $420,000 from the elimination of unnecessary stripping operations and $1,320,000 in management practice savings from the reduced use of MeCl-containing strippers. Additional detail on these calculations are included in the public docket for this rulemaking.

Miscellaneous Coating Operations

We estimate that the final standards for surface coating operations will have no net annual cost to surface coating operations. The initial cost of complying with the final standards would be off-set and recovered over time by cost savings as a result of more efficient use of labor and materials by surface coating operations. The initial costs for surface coating operations are for purchasing improved spray booth filters, HVLP or equivalent spray guns, and painter training, if needed to comply with the final standards.

Spray finishing operations are already required by OSHA standards to perform spray painting in a spray booth or similar enclosure. However, the final standards specify that certain types of filters have to be used on the spray booth exhaust to minimize HAP emissions, and these filters are not addressed by OSHA standards. Some surface coating sources may need to replace their current filters for ones with higher paint overspray capture efficiency, but the higher efficiency filters are readily available and will not result in an additional cost.

The estimated cost for training is $1,000 per painter, which covers tuition cost and labor cost for 16 hours of training time. Based on the United States census data collected to estimate new sources for this source category the number of refinishing shops in the United States remain constant (i.e., for every new shop, a shop closes) and it is expected that this trend will continue in the future. This reflects on the number of new painters that would need training. We assumed that training certification would be valid for five years, so about one-fifth of painters (20 percent) would receive training every year. We estimate that about 18,000 painters would be trained per year at an annual cost of $18 million per year.

However, EPA believes that these training costs could be over-stated for at least two reasons. First, many facilities already send their painters to training sponsored by paint companies and trade organizations. Paint companies sponsor painter training so that the paint company can reduce warranty claims on their paint products. These training courses already cover much of the same material required by the final rule. Therefore, the rule would not impose new training costs on these facilities that already participate in training.

Second, the estimated training cost could be offset by reduced coating costs if the training results in reduced coating consumption. Data from the STAR® training programs indicate that painters who complete this training can decrease the amount of coating sprayed by about 20 percent per job. We estimate that if a typical facility reduced their coating consumption and costs by about four percent per year, the cost savings would equalize the increased cost of training after one year, and there would be no net cost in training. To recover the cost of training over five years, a typical facility would need to reduce their coating consumption by slightly less than one percent.

In summary, EPA estimates that the final requirements for surface coating operations would not result in any net increase in annual costs from the control requirements for surface coating operations. We estimated that the annual cost for recordkeeping and reporting for surface coating operations would be $7.8 million for about 36,000 surface coating operations, or an average of about $220 per facility. Cost estimates are based on the information available to the Administrator and presented in the economic analysis of this rule. Additional detail is included in the public docket for this rulemaking.

C. What are the economic impacts?

The economic impact analysis focuses on changes in market prices and output levels. A more detailed discussion of the economic impacts is presented in the economic impact analysis memorandum that is included in the docket.

Both the magnitude of control costs needed to comply with the rule and the distribution of these costs among affected facilities can have a role in determining how the market prices and quantities will change in response to the rule. In this case, we have so many facilities that model facilities must be used in the cost analysis. The cost analysis estimates that there will be no net increase in annual costs from the control requirements from the final regulation for surface coating operations. The record keeping and reporting costs are estimated to range from $76 to $95 per facility per year.

These costs are too small to have any significant market impact. Whether the costs are absorbed by the affected facilities or passed on to the purchaser in the form of higher prices, the impacts would be quite small.

The cost analysis estimates that there will be a net cost savings from the control requirements, recordkeeping, and reporting from the final regulation for paint stripping for all but the smallest model plant. The cost for the smallest model plant is estimated to be $11 a year.

Again, these costs are too small to have any significant market impact. Whether the costs are absorbed by the affected facilities or passed on to the purchaser in the form of higher prices, the impacts would be quite small.

While most of these facilities are small, the very small costs are not expected to be even a tenth of a percent of revenues. Thus a significant impact is not expected for a substantial number of small entities.

D. What are the non-air health, environmental, and energy impacts?

Paint Stripping Operations

We estimate that there will be a reduction in non-air health and environmental impacts resulting from the paint stripping area source NESHAP. Reduced usage of MeCl-containing chemical strippers will result in reduction in waste water generated from rinsing chemically stripped pieces. Additionally, reduced chemical stripping activity will result in a reduction in the generation of hazardous wastes composed of rags and other chemical stripper applicators and removal equipment.

EPA expects some increase in the need for energy resulting from switching away from MeCl-containing chemical strippers to other paint stripping methods. There would be a slight increase in energy usage associated with switching to other chemical strippers that do not contain MeCl because they often need to be heated above room temperature to be most effective. There is also some increase in energy usage associated with non-manual mechanical stripping and blasting with both dry and wet media.

The energy usage increase would be somewhat more for thermal decomposition or cryogenic paint stripping technologies. Thermal decomposition basically uses natural gas heated ovens to bake the paint off the substrate. Cryogenic paint stripping methods have increased electricity demands associated with the production of liquid nitrogen or liquid carbon dioxide.

Surface Coating Operations

We estimated that about 5,000 surface coating operations, primarily motor vehicle refinishing operations, would need to install spray booths to comply with the final standards. Spray booths would need electricity to run fans and natural gas to heat make-up air to maintain facility temperatures in colder weather. We estimate that this would lead to an increased electricity consumption of 9.8 million kilowatt hours per year and increased natural gas consumption of 724 million cubic feet per year. However, spray booths are already required for spray finishing operations to comply with OSHA standards, so these impacts would not be assigned to these final standards.

Facilities that install spray booths would also need to dispose of used spray booth filters. These are often placed in a sealed drum to prevent spontaneous combustion and disposed of as hazardous waste. We estimate that 5,000 new spray booths could generate used filters equal to about 8,000 drums per year.

We expect no increase in generation of wastewater or other water quality impacts. None of the control measures considered for this rule generates a wastewater stream.

The installation of spray booths and increased worker training in the proper use and handling of coating materials should reduce worker exposure to harmful chemicals in the workplace. This should have a positive benefit on worker health, but this benefit cannot be quantified in the scope of this rulemaking.

VII. Statutory and Executive Order Reviews

A. Executive Order 12866: Regulatory Planning and Review

Under Executive Order (EO) 12866 (58 FR 51735, October 4, 1993), this action is a “significant regulatory action.” Accordingly, EPA submitted this action to the Office of Management and Budget (OMB) for review under EO 12866 and any changes made in response to OMB recommendations have been documented in the docket for this action.

B. Paperwork Reduction Act

The information collection requirements in this rule have been submitted for approval to the OMB under the Paperwork Reduction Act, 44 U.S.C. 3501 et seq. The information collection requirements are not enforceable until OMB approves them.

The information collection requirements are based on notification, recordkeeping, and reporting requirements in the NESHAP General Provisions (40 CFR part 63, subpart A), which are mandatory for all operators subject to national emission standards. These recordkeeping and reporting requirements are specifically authorized by CAA section 114 (42 U.S.C. 7414). All information submitted to EPA pursuant to the recordkeeping and reporting requirements for which a claim of confidentiality is made is safeguarded according to Agency policies set forth in 40 CFR part 2, subpart B.

The standards would require sources to submit an initial notification that they are subject to the standards, submit a notification of whether or not the source is in compliance (the notification of compliance status) and keep records needed to demonstrate compliance. These requirements would be the minimum needed to ensure that sources were complying with the requirements of the rule.

EPA estimates that about 40,000 existing area sources would be subject to the standards. EPA also estimates that about 1,600 new facilities would open per year in the three years following promulgation of the standards, but that the total number of facilities would remain constant as new facilities replace facilities that have closed.

New and existing sources would have no capital costs associated with the information collection requirements in the standards.

The estimated recordkeeping and reporting burden in the third year after the effective date of the promulgated rule is estimated to be 62,877 labor hours at a cost of $2.2 million. This estimate includes, depending on the type of source, the cost of keeping records of paint stripping solvent consumption, painter training, spray booth filter efficiency, and spray gun transfer efficiency. The average hours and cost per facility would be 6.4 hours and $219.

Burden means the total time, effort, or financial resources expended by persons to generate, maintain, retain, or disclose or provide information to or for a Federal Agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations in 40 CFR are listed in 40 CFR part 9. When this ICR is approved by OMB, the Agency will publish a technical amendment to 40 CFR part 9 in the Federal Register to display the OMB control number for the approved information collection requirements contained in this final rule.

C. Regulatory Flexibility Act

The Regulatory Flexibility Act (RFA) generally requires an agency to prepare a regulatory flexibility analysis of any rule subject to notice and comment rulemaking requirements under the Administrative Procedure Act or any other statute unless the agency certifies that the rule would not have a significant economic impact on a substantial number of small entities. Small entities include small businesses, small not-for-profit enterprises, and small governmental jurisdictions.

For the purposes of assessing the impacts of this rule on small entities, small entity is defined as: (1) A small business that meets the Small Business Administration size standards for small businesses found at 13 CFR 121.201; (2) a small governmental jurisdiction that is a government of a city, county, town, school district, or special district with a population of less than 50,000; and (3) a small organization that is any not-for-profit enterprise which is independently owned and operated and is not dominant in its field.

After considering the economic impacts of this final rule on small entities, I certify that this action will not have a significant economic impact on a substantial number of small entities. The small entities directly regulated by this final rule are small businesses, small governmental jurisdictions and small non-profits. There will not be significant adverse impacts on existing area sources in any of the three source categories because the rule creates minimal burden for existing sources associated primarily with notification and reporting requirements, as the best management or equipment practices are designed to recover initial cost. EPA has determined that the cost of these requirements (estimated at less than $100 per year per facility) would not result in a significant adverse economic impact on any facility, large or small (i.e., the cost is less than one percent of total revenues, even for small businesses).

Although this final rule will not have a significant economic impact on a substantial number of small entities, EPA nonetheless, has tried to reduce the impact of this rule on small entities. The standards represent practices and controls that are common throughout the sources engaged in paint stripping and surface coating. The standards also require minimal amount of recordkeeping and reporting needed to demonstrate and verify compliance. These standards were developed in consultation with numerous individual small businesses and their representative trade associations.

D. Unfunded Mandates Reform Act

Title II of the Unfunded Mandates Reform Act of 1995 (UMRA), Public Law 104-4, established requirements for Federal agencies to assess the effects of their regulatory actions on State, local, and tribal governments and the private sector. Under section 202 of the UMRA, EPA generally must prepare a written statement, including a cost-benefit analysis, for the proposed and final rule with “Federal mandates” that may result in expenditures to State, local, and tribal governments, in the aggregate, or to the private sector, of $100 million or more in any one year. Before promulgating a rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

EPA has determined that this rule does not contain a Federal mandate that may result in expenditures of $100 million or more for State, local, and tribal governments, in the aggregate, or the private sector in any one year. This decision is based on discussions with State, local, and tribal governments during site visits. Thus, this rule is not subject to the requirements of sections 202 and 205 of the UMRA.

EPA has determined that this rule contains no regulatory requirements that might significantly or uniquely affect small governments. Some State, local, or tribal governments have paint stripping and/or surface coating operations (e.g., municipal fleet vehicle maintenance garages) that may be subject to the requirements of this rule. However, EPA does not believe that any of them are operated by small government entities. Small government entities are expected to contract for vehicle refinishing services when these services are needed, rather than doing this work in-house. In addition, total expenditures for all entities to comply with the rule are estimated to be less than $100 million in any year.

E. Executive Order 13132: Federalism

Executive Order (EO) 13132, entitled “Federalism” (64 FR 43255, August 10, 1999), requires EPA to develop an accountable process to ensure “meaningful and timely input by State and local officials in the development of regulatory policies that have Federalism implications”. “Policies that have Federalism implications” is defined in the EO to include regulations that have “substantial direct effects on the States, on the relationship between the national Government and the States, or on the distribution of power and responsibilities among the various levels of government.”

This rule does not have Federalism implications. It will not have substantial direct effects on the States, on the relationship between the national government and the States, or on the distribution of power and responsibilities among the various levels of government, as specified in EO 13132. The EPA is required by CAA section 112, to establish the standards in the rule. The rule primarily affects private industry, and does not impose significant economic costs on State or local governments. In the spirit of Executive Order 13132, and consistent with EPA policy to promote communications between EPA and State and local governments, EPA specifically solicited comment on the proposed rule from State and local officials.

F. Executive Order 13175: Consultation and Coordination With Indian Tribal Governments

Executive Order (EO) 13175, entitled “Consultation and Coordination with Indian Tribal Governments” (65 FR 67249, November 9, 2000), requires EPA to develop an accountable process to ensure “meaningful and timely input by tribal officials in the development of regulatory policies that have tribal implications.” This final rule does not have tribal implications, as specified in EO 13175. It will not have substantial direct effects on tribal governments, or the relationship between the Federal government and Indian tribes, or on the distribution of power and responsibilities between the Federal government and Indian tribes, as specified in EO 13175. Thus, EO 13175 does not apply to this rule.

G. Executive Order 13045: Protection of Children From Environmental Health and Safety Risks

Executive Order (EO) 13045: “Protection of Children From Environmental Health and Safety Risks” (62 FR 19885, April 23, 1997) applies to any rule that: (1) Is determined to be “economically significant” as defined under EO 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

EPA interprets EO 13045 as applying only to those regulatory actions that are based on health or safety risks, such that the analysis required under section 5-501 of the Order has the potential to influence the regulation. This rule is not subject to EO 13045 because it is based on technology performance and not on health or safety risks.

H. Executive Order 13211: Actions Concerning Regulations That Significantly Affect Energy Supply, Distribution, or Use

This rule is not a “significant energy action” as defined in Executive Order 13211, “Actions Concerning Regulations That Significantly Affect Energy Supply, Distribution, or Use” (66 FR 28355, (May 22, 2001)) because it is not likely to have a significant adverse effect on the supply, distribution, or use of energy. Some of the affected sources would be expected to install and operate spray booths to comply with the rule and these would require electricity and natural gas to operate. However the increased use of energy by these sources would not have a significant effect on the supply, distribution, or use of energy.

I. National Technology Transfer Advancement Act

As noted in the proposed rule, section 12(d) of the National Technology Transfer and Advancement Act of 1995 (NTTAA) (Pub. L. 104-113, 12(d), (15 U.S.C. 272 note) directs EPA to use voluntary consensus standards (VCS) in its regulatory activities, unless to do so would be inconsistent with applicable law or otherwise impractical. The VCS are technical standards (e.g., materials specifications, test methods, sampling procedures, and business practices) that are developed or adopted by VCS bodies. The NTTAA directs EPA to provide Congress, through OMB, explanations when the Agency decides not to use available and applicable VCS.

This rulemaking involves technical standards. Therefore the EPA conducted searches to identify potential voluntary consensus standards. However, we identified no such standards and none were brought to our attention in comments. The search and review results are in the docket for this rule. Therefore EPA has decided to use the following:

(1) the American Society of Heating, Refrigerating, and Air-Conditioning Engineers (ASHRAE) Method 52.1, “Gravimetric and Dust-Spot Procedures for Testing Air-Cleaning Devices Used in General Ventilation for Removing Particulate Matter, June 4, 1992,” to measure paint booth filter efficiency to measure the capture efficiency of paint overspray arrestors with spray-applied coatings

(2) California South Coast Air Quality Management District's (SCAQMD) methods: “Spray Equipment Transfer Efficiency Test Procedure For Equipment User, May 24, 1989” and “Guidelines for Demonstrating Equivalency with District Approved Transfer Efficient Spray Guns, September 26, 2002” as methods to demonstrate the equivalency of spray gun transfer efficiency for spray guns that do not meet the definition of HVLP or electrostatic spray.

Under § 63.7(f) and § 63.8(f) of subpart A of the General Provisions, a source may apply to EPA for permission to use alternative test methods or alternative monitoring requirements in place of any required testing methods, performance specifications, or procedures.

J. Executive Order 12898: Federal Actions To Address Environmental Justice in Minority Populations and Low-Income Populations

Executive Order 12898 (59 FR 7629 (Feb. 16, 1994)) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States.

EPA has determined that this final rule will not have disproportionately high and adverse human health or environmental effects on minority or low-income populations because it increases the level of environmental protection for all affected populations without having any disproportionately high and adverse human health or environmental effects on any population, including any minority or low-income population. The rule establishes national standards for air quality that apply equally to all affected sources, whether or not they are located in or near minority or low-income populations. Hence there are no requirements in this rule that would disproportionately affect these populations.

K. Congressional Review Act

The Congressional Review Act, 5 U.S.C. 801, et seq., as added by the Small Business Regulatory Enforcement Fairness Act of 1996, generally provides that before a rule may take effect the agency promulgating the rule must submit a rule report, which includes a copy of the rule, to each House of the Congress and to the Comptroller General of the United States. The EPA will submit a report containing this final rule and other required information to the U.S. Senate, the U.S. House of Representatives, and the Comptroller General of the United States prior to publication of the final rule in the Federal Register. A major rule cannot take effect until 60 days after it is published in the Federal Register. This action is not a “major rule” as defined by 5 U.S.C. 804(2). This final rule will be effective on January 9, 2008.

List of Subjects in 40 CFR Part 63

Environmental protection, Air pollution control, Hazardous substances, Incorporation by reference, Reporting and recordkeeping requirements.

Dated: December 14, 2007.
Stephen L. Johnson,
Administrator.

For the reasons stated in the preamble, title 40, chapter I of the Code of Federal Regulations is amended as follows:

PART 63—[AMENDED]

1. The authority citation for part 63 continues to read as follows:

Authority: 42 U.S.C. 7401, et seq.

Subpart A—[Amended]

2. Section 63.14 is amended by revising paragraph (d) introductory text and adding new paragraphs (d)(7) and (d)(8) and (l)(1) to read as follows:

§ 63.14 Incorporations by reference.

* * * * *

(d) State and Local Requirements. The materials listed below are available at the Air and Radiation Docket and Information Center, U.S. EPA, 401 M St., SW., Washington, DC. Additionally, the California South Coast Air Quality Management District materials are available at http://www.aqmd.gov/permit/spraytransferefficiency.html.

* * * * *

(7) California South Coast Air Quality Management District's “Spray Equipment Transfer Efficiency Test Procedure for Equipment User, May 24, 1989”, IBR approved for § 63.11173(e)(3).

(8) California South Coast Air Quality Management District's “Guidelines for Demonstrating Equivalency with District Approved Transfer Efficient Spray Guns, September 26, 2002”, IBR approved for § 63.11173(e)(3).

* * * * *

(l) The following materials are available for purchase from the American Society of Heating, Refrigerating, and Air-Conditioning Engineers at 1791 Tullie Circle, NE., Atlanta, GA 30329 or by electronic mail at orders@ashrae.org:

(1) American Society of Heating, Refrigerating, and Air-Conditioning Engineers Method 52.1, “Gravimetric and Dust-Spot Procedures for Testing Air-Cleaning Devices Used in General Ventilation for Removing Particulate Matter, June 4, 1992”, IBR approved for § 63.11173(e)(2)(i).

* * * * *

3. Part 63 is amended by adding subpart HHHHHH consisting of §§ 63.11169 through 63.11180 and table 1 to read as follows:

Subpart HHHHHH National Emission Standards for Hazardous Air Pollutants: Paint Stripping and Miscellaneous Surface Coating Operations at Area Sources

What This Subpart Covers

Sec.
63.11169 What is the purpose of this subpart?
63.11170 Am I subject to this subpart?
63.11171 How do I know if my source is considered a new source or an existing source?
General Compliance Requirements
63.11172 When do I have to comply with this subpart?
63.11173 What are my general requirements for complying with this subpart?
63.11174 What parts of the General Provisions apply to me?
Notifications, Reports, and Records
63.11175 What notifications must I submit?
63.11176 What reports must I submit?
63.11177 What records must I keep?
63.11178 In what form and for how long must I keep my records?
Other Requirements and Information
63.11179 Who implements and enforces this subpart?
63.11180 What definitions do I need to know?
Table to Subpart HHHHHH of Part 63
Table 1 to Subpart HHHHHH of Part 63—Applicability of General Provisions to Subpart HHHHHH of Part 63

Subpart HHHHHH—National Emission Standards for Hazardous Air Pollutants: Paint Stripping and Miscellaneous Surface Coating Operations at Area Sources

What This Subpart Covers

§ 63.11169 What is the purpose of this subpart?

Except as provided in paragraph (d) of this section, this subpart establishes national emission standards for hazardous air pollutants (HAP) for area sources involved in any of the activities in paragraphs (a) through (c) of this section. This subpart also establishes requirements to demonstrate initial and continuous compliance with the emission standards contained herein.

(a) Paint stripping operations that involve the use of chemical strippers that contain methylene chloride (MeCl), Chemical Abstract Service number 75092, in paint removal processes;

(b) Autobody refinishing operations that encompass motor vehicle and mobile equipment spray-applied surface coating operations;

(c) Spray application of coatings containing compounds of chromium (Cr), lead (Pb), manganese (Mn), nickel (Ni), or cadmium (Cd), collectively referred to as the target HAP to any part or product made of metal or plastic, or combinations of metal and plastic that are not motor vehicles or mobile equipment.

(d) This subpart does not apply to any of the activities described in paragraph (d)(1) through (6) of this section.

(1) Surface coating or paint stripping performed on site at installations owned or operated by the Armed Forces of the United States (including the Coast Guard and the National Guard of any such State), the National Aeronautics and Space Administration, or the National Nuclear Security Administration.

(2) Surface coating or paint stripping of military munitions, as defined in § 63.11180, manufactured by or for the Armed Forces of the United States (including the Coast Guard and the National Guard of any such State) or equipment directly and exclusively used for the purposes of transporting military munitions.

(3) Surface coating or paint stripping performed by individuals on their personal vehicles, possessions, or property, either as a hobby or for maintenance of their personal vehicles, possessions, or property. This subpart also does not apply when these operations are performed by individuals for others without compensation. An individual who spray applies surface coating to more than two motor vehicles or pieces of mobile equipment per year is subject to the requirements in this subpart that pertain to motor vehicle and mobile equipment surface coating regardless of whether compensation is received.

(4) Surface coating or paint stripping that meets the definition of “research and laboratory activities” in § 63.11180.

(5) Surface coating or paint stripping that meets the definition of “quality control activities” in § 63.11180.

(6) Surface coating or paint stripping activities that are covered under another area source NESHAP.

§ 63.11170 Am I subject to this subpart?

(a) You are subject to this subpart if you operate an area source of HAP as defined in paragraph (b) of this section, including sources that are part of a tribal, local, State, or Federal facility and you perform one or more of the activities in paragraphs (a)(1) through (3) of this section:

(1) Perform paint stripping using MeCl for the removal of dried paint (including, but not limited to, paint, enamel, varnish, shellac, and lacquer) from wood, metal, plastic, and other substrates.

(2) Perform spray application of coatings, as defined in § 63.11180, to motor vehicles and mobile equipment including operations that are located in stationary structures at fixed locations, and mobile repair and refinishing operations that travel to the customer's location, except spray coating applications that meet the definition of facility maintenance in § 63.11180. However, if you are the owner or operator of a motor vehicle or mobile equipment surface coating operation, you may petition the Administrator for an exemption from this subpart if you can demonstrate, to the satisfaction of the Administrator, that you spray apply no coatings that contain the target HAP, as defined in § 63.11180. Petitions must include a description of the coatings that you spray apply and your certification that you do not spray apply any coatings containing the target HAP. If circumstances change such that you intend to spray apply coatings containing the target HAP, you must submit the initial notification required by 63.11175 and comply with the requirements of this subpart.

(3) Perform spray application of coatings that contain the target HAP, as defined in § 63.11180, to a plastic and/or metal substrate on a part or product, except spray coating applications that meet the definition of facility maintenance or space vehicle in § 63.11180.

(b) An area source of HAP is a source of HAP that is not a major source of HAP, is not located at a major source, and is not part of a major source of HAP emissions. A major source of HAP emissions is any stationary source or group of stationary sources located within a contiguous area and under common control that emits or has the potential to emit any single HAP at a rate of 9.07 megagrams (Mg) (10 tons) or more per year, or emit any combination of HAP at a rate of 22.68 Mg (25 tons) or more per year.

§ 63.11171 How do I know if my source is considered a new source or an existing source?

(a) This subpart applies to each new and existing affected area source engaged in the activities listed in § 63.11170, with the exception of those activities listed in § 63.11169(d) of this subpart.

(b) The affected source is the collection of all of the items listed in paragraphs (b)(1) through (6) of this section. Not all affected sources will have all of the items listed in paragraphs (b)(1) through (6) of this section.

(1) Mixing rooms and equipment;

(2) Spray booths, ventilated prep stations, curing ovens, and associated equipment;

(3) Spray guns and associated equipment;

(4) Spray gun cleaning equipment;

(5) Equipment used for storage, handling, recovery, or recycling of cleaning solvent or waste paint; and

(6) Equipment used for paint stripping at paint stripping facilities using paint strippers containing MeCl.

(c) An affected source is a new source if it meets the criteria in paragraphs (c)(1) and (c)(2) of this section.

(1) You commenced the construction of the source after September 17, 2007 by installing new paint stripping or surface coating equipment. If you purchase and install spray booths, enclosed spray gun cleaners, paint stripping equipment to reduce MeCl emissions, or purchase new spray guns to comply with this subpart at an existing source, these actions would not make your existing source a new source.

(2) The new paint stripping or surface coating equipment is used at a source that was not actively engaged in paint stripping and/or miscellaneous surface coating prior to September 17, 2007.

(d) An affected source is reconstructed if it meets the definition of reconstruction in § 63.2.

(e) An affected source is an existing source if it is not a new source or a reconstructed source.

General Compliance Requirements

§ 63.11172 When do I have to comply with this subpart?

The date by which you must comply with this subpart is called the compliance date. The compliance date for each type of affected source is specified in paragraphs (a) and (b) of this section.

(a) For a new or reconstructed affected source, the compliance date is the applicable date in paragraph (a)(1) or (2) of this section:

(1) If the initial startup of your new or reconstructed affected source is after September 17, 2007, the compliance date is January 9, 2008.

(2) If the initial startup of your new or reconstructed affected source occurs after January 9, 2008, the compliance date is the date of initial startup of your affected source.

(b) For an existing affected source, the compliance date is January 10, 2011.

§ 63.11173 What are my general requirements for complying with this subpart?

(a) Each paint stripping operation that is an affected area source must implement management practices to minimize the evaporative emissions of MeCl. The management practices must address, at a minimum, the practices in paragraphs (a)(1) through (5) of this section, as applicable, for your operations.

(1) Evaluate each application to ensure there is a need for paint stripping (e.g., evaluate whether it is possible to re-coat the piece without removing the existing coating).

(2) Evaluate each application where a paint stripper containing MeCl is used to ensure that there is no alternative paint stripping technology that can be used.

(3) Reduce exposure of all paint strippers containing MeCl to the air.

(4) Optimize application conditions when using paint strippers containing MeCl to reduce MeCl evaporation (e.g., if the stripper must be heated, make sure that the temperature is kept as low as possible to reduce evaporation).

(5) Practice proper storage and disposal of paint strippers containing MeCl (e.g., store stripper in closed, air-tight containers).

(b) Each paint stripping operation that has annual usage of more than one ton of MeCl must develop and implement a written MeCl minimization plan to minimize the use and emissions of MeCl. The MeCl minimization plan must address, at a minimum, the management practices specified in paragraphs (a)(1) through (5) of this section, as applicable, for your operations. Each operation must post a placard or sign outlining the MeCl minimization plan in each area where paint stripping operations subject to this subpart occur. Paint stripping operations with annual usage of more than one ton of MeCl, must comply with the management practices in paragraphs (a)(1) through (5) of this section, as applicable, but are not required to develop and implement a written MeCl minimization plan.

(c) Each paint stripping operation must maintain copies of annual usage of paint strippers containing MeCl on site at all times.

(d) Each paint stripping operation with annual usage of more than one ton of MeCl must maintain a copy of their current MeCl minimization plan on site at all times.

(e) Each motor vehicle and mobile equipment surface coating operation and each miscellaneous surface coating operation must meet the requirements in paragraphs (e)(1) through (e)(5) of this section.

(1) All painters must be certified that they have completed training in the proper spray application of surface coatings and the proper setup and maintenance of spray equipment. The minimum requirements for training and certification are described in paragraph (f) of this section. The spray application of surface coatings is prohibited by persons who are not certified as having completed the training described in paragraph (f) of this section. The requirements of this paragraph do not apply to the students of an accredited surface coating training program who are under the direct supervision of an instructor who meets the requirements of this paragraph.

(2) All spray-applied coatings must be applied in a spray booth, preparation station, or mobile enclosure that meets the requirements of paragraph (e)(2)(i) of this section and either paragraph (e)(2)(ii), (e)(2)(iii), or (e)(2)(iv) of this section.

(i) All spray booths, preparation stations, and mobile enclosures must be fitted with a type of filter technology that is demonstrated to achieve at least 98-percent capture of paint overspray. The procedure used to demonstrate filter efficiency must be consistent with the American Society of Heating, Refrigerating, and Air-Conditioning Engineers (ASHRAE) Method 52.1, “Gravimetric and Dust-Spot Procedures for Testing Air-Cleaning Devices Used in General Ventilation for Removing Particulate Matter, June 4, 1992” (incorporated by reference, see § 63.14 of subpart A of this part). The test coating for measuring filter efficiency shall be a high solids bake enamel delivered at a rate of at least 135 grams per minute from a conventional (non-HVLP) air-atomized spray gun operating at 40 pounds per square inch (psi) air pressure; the air flow rate across the filter shall be 150 feet per minute. Owners and operators may use published filter efficiency data provided by filter vendors to demonstrate compliance with this requirement and are not required to perform this measurement. The requirements of this paragraph do not apply to waterwash spray booths that are operated and maintained according to the manufacturer's specifications.

(ii) Spray booths and preparation stations used to refinish complete motor vehicles or mobile equipment must be fully enclosed with a full roof, and four complete walls or complete side curtains, and must be ventilated at negative pressure so that air is drawn into any openings in the booth walls or preparation station curtains. However, if a spray booth is fully enclosed and has seals on all doors and other openings and has an automatic pressure balancing system, it may be operated at up to, but not more than, 0.05 inches water gauge positive pressure.

(iii) Spray booths and preparation stations that are used to coat miscellaneous parts and products or vehicle subassemblies must have a full roof, at least three complete walls or complete side curtains, and must be ventilated so that air is drawn into the booth. The walls and roof of a booth may have openings, if needed, to allow for conveyors and parts to pass through the booth during the coating process.

(iv) Mobile ventilated enclosures that are used to perform spot repairs must enclose and, if necessary, seal against the surface around the area being coated such that paint overspray is retained within the enclosure and directed to a filter to capture paint overspray.

(3) All spray-applied coatings must be applied with a high volume, low pressure (HVLP) spray gun, electrostatic application, airless spray gun, air-assisted airless spray gun, or an equivalent technology that is demonstrated by the spray gun manufacturer to achieve transfer efficiency comparable to one of the spray gun technologies listed above for a comparable operation, and for which written approval has been obtained from the Administrator. The procedure used to demonstrate that spray gun transfer efficiency is equivalent to that of an HVLP spray gun must be equivalent to the California South Coast Air Quality Management District's “Spray Equipment Transfer Efficiency Test Procedure for Equipment User, May 24, 1989” and “Guidelines for Demonstrating Equivalency with District Approved Transfer Efficient Spray Guns, September 26, 2002” (incorporated by reference, see § 63.14 of subpart A of this part). The requirements of this paragraph do not apply to painting performed by students and instructors at paint training centers. The requirements of this paragraph do not apply to the surface coating of aerospace vehicles that involves the coating of components that normally require the use of an airbrush or an extension on the spray gun to properly reach limited access spaces; to the application of coatings on aerospace vehicles that contain fillers that adversely affect atomization with HVLP spray guns; or to the application of coatings on aerospace vehicles that normally have a dried film thickness of less than 0.0013 centimeter (0.0005 in.).

(4) All paint spray gun cleaning must be done so that an atomized mist or spray of gun cleaning solvent and paint residue is not created outside of a container that collects used gun cleaning solvent. Spray gun cleaning may be done with, for example, hand cleaning of parts of the disassembled gun in a container of solvent, by flushing solvent through the gun without atomizing the solvent and paint residue, or by using a fully enclosed spray gun washer. A combination of non-atomizing methods may also be used.

(5) As provided in § 63.6(g), we, the U.S. Environmental Protection Agency, may choose to grant you permission to use an alternative to the emission standards in this section after you have requested approval to do so according to § 63.6(g)(2).

(f) Each owner or operator of an affected miscellaneous surface coating source must ensure and certify that all new and existing personnel, including contract personnel, who spray apply surface coatings, as defined in § 63.11180, are trained in the proper application of surface coatings as required by paragraph (e)(1) of this section. The training program must include, at a minimum, the items listed in paragraphs (f)(1) through (f)(3) of this section.

(1) A list of all current personnel by name and job description who are required to be trained;

(2) Hands-on and classroom instruction that addresses, at a minimum, initial and refresher training in the topics listed in paragraphs (f)(2)(i) through (2)(iv) of this section.

(i) Spray gun equipment selection, set up, and operation, including measuring coating viscosity, selecting the proper fluid tip or nozzle, and achieving the proper spray pattern, air pressure and volume, and fluid delivery rate.

(ii) Spray technique for different types of coatings to improve transfer efficiency and minimize coating usage and overspray, including maintaining the correct spray gun distance and angle to the part, using proper banding and overlap, and reducing lead and lag spraying at the beginning and end of each stroke.

(iii) Routine spray booth and filter maintenance, including filter selection and installation.

(iv) Environmental compliance with the requirements of this subpart.

(3) A description of the methods to be used at the completion of initial or refresher training to demonstrate, document, and provide certification of successful completion of the required training. Owners and operators who can show by documentation or certification that a painter's work experience and/or training has resulted in training equivalent to the training required in paragraph (f)(2) of this section are not required to provide the initial training required by that paragraph to these painters.

(g) As required by paragraph (e)(1) of this section, all new and existing personnel at an affected motor vehicle and mobile equipment or miscellaneous surface coating source, including contract personnel, who spray apply surface coatings, as defined in § 63.11180, must be trained by the dates specified in paragraphs (g)(1) and (2) of this section. Employees who transfer within a company to a position as a painter are subject to the same requirements as a new hire.

(1) If your source is a new source, all personnel must be trained and certified no later than 180 days after hiring or no later than July 7, 2008, whichever is later. Painter training that was completed within five years prior to the date training is required, and that meets the requirements specified in paragraph (f)(2) of this section satisfies this requirement and is valid for a period not to exceed five years after the date the training is completed.

(2) If your source is an existing source, all personnel must be trained and certified no later than 180 days after hiring or no later than January 10, 2011, whichever is later. Painter training that was completed within five years prior to the date training is required, and that meets the requirements specified in paragraph (f)(2) of this section satisfies this requirement and is valid for a period not to exceed five years after the date the training is completed.

(3) Training and certification will be valid for a period not to exceed five years after the date the training is completed, and all personnel must receive refresher training that meets the requirements of this section and be re-certified every five years.

§ 63.11174 What parts of the General Provisions apply to me?

(a) Table 1 of this subpart shows which parts of the General Provisions in subpart A apply to you.

(b) If you are an owner or operator of an area source subject to this subpart, you are exempt from the obligation to obtain a permit under 40 CFR part 70 or 71, provided you are not required to obtain a permit under 40 CFR 70.3(a) or 71.3(a) for a reason other than your status as an area source under this subpart. Notwithstanding the previous sentence, you must continue to comply with the provisions of this subpart applicable to area sources.

Notifications, Reports, and Records

§ 63.11175 What notifications must I submit?

(a) Initial Notification. If you are the owner or operator of a paint stripping operation using paint strippers containing MeCl and/or a surface coating operation subject to this subpart, you must submit the initial notification required by § 63.9(b). For a new affected source, you must submit the Initial Notification no later than 180 days after initial startup or July 7, 2008, whichever is later. For an existing affected source, you must submit the initial notification no later than January 11, 2010. The initial notification must provide the information specified in paragraphs (a)(1) through (8) of this section.

(1) The company name, if applicable.

(2) The name, title, street address, telephone number, e-mail address (if available), and signature of the owner and operator, or other certifying company official;

(3) The street address (physical location) of the affected source and the street address where compliance records are maintained, if different. If the source is a motor vehicle or mobile equipment surface coating operation that repairs vehicles at the customer's location, rather than at a fixed location, such as a collision repair shop, the notification should state this and indicate the physical location where records are kept to demonstrate compliance;

(4) An identification of the relevant standard (i.e., this subpart, 40 CFR part 63, subpart HHHHHH);

(5) A brief description of the type of operation as specified in paragraph (a)(5)(i) or (ii) of this section.

(i) For all surface coating operations, indicate whether the source is a motor vehicle and mobile equipment surface coating operation or a miscellaneous surface coating operation, and include the number of spray booths and preparation stations, and the number of painters usually employed at the operation.

(ii) For paint stripping operations, identify the method(s) of paint stripping employed (e.g., chemical, mechanical) and the substrates stripped (e.g., wood, plastic, metal).

(6) Each paint stripping operation must indicate whether they plan to annually use more than one ton of MeCl after the compliance date.

(7) A statement of whether the source is already in compliance with each of the relevant requirements of this subpart, or whether the source will be brought into compliance by the compliance date. For paint stripping operations, the relevant requirements that you must evaluate in making this determination are specified in § 63.11173(a) through (d) of this subpart. For surface coating operations, the relevant requirements are specified in § 63.11173(e) through (g) of this subpart.

(8) If your source is a new source, you must certify in the initial notification whether the source is in compliance with each of the requirements of this subpart. If your source is an existing source, you may certify in the initial notification that the source is already in compliance. If you are certifying in the initial notification that the source is in compliance with the relevant requirements of this subpart, then include also a statement by a responsible official with that official's name, title, phone number, e-mail address (if available) and signature, certifying the truth, accuracy, and completeness of the notification, a statement that the source has complied with all the relevant standards of this subpart, and that this initial notification also serves as the notification of compliance status.

(b) Notification of Compliance Status. If you are the owner or operator of a new source, you are not required to submit a separate notification of compliance status in addition to the initial notification specified in paragraph (a) of this subpart provided you were able to certify compliance on the date of the initial notification, as part of the initial notification, and your compliance status has not since changed. If you are the owner or operator of any existing source and did not certify in the initial notification that your source is already in compliance as specified in paragraph (a) of this section, then you must submit a notification of compliance status. You must submit a Notification of Compliance Status on or before March 11, 2011. You are required to submit the information specified in paragraphs (b)(1) through (4) of this section with your Notification of Compliance Status:

(1) Your company's name and the street address (physical location) of the affected source and the street address where compliance records are maintained, if different.

(2) The name, title, address, telephone, e-mail address (if available) and signature of the owner and operator, or other certifying company official, certifying the truth, accuracy, and completeness of the notification and a statement of whether the source has complied with all the relevant standards and other requirements of this subpart or an explanation of any noncompliance and a description of corrective actions being taken to achieve compliance. For paint stripping operations, the relevant requirements that you must evaluate in making this determination are specified in § 63.11173(a) through (d). For surface coating operations, the relevant requirements are specified in § 63.11173(e) through (g).

(3) The date of the Notification of Compliance Status.

(4) If you are the owner or operator of an existing affected paint stripping source that annually uses more than one ton of MeCl, you must submit a statement certifying that you have developed and are implementing a written MeCl minimization plan in accordance with § 63.11173(b).

§ 63.11176 What reports must I submit?

(a) Annual Notification of Changes Report. If you are the owner or operator of a paint stripping, motor vehicle or mobile equipment, or miscellaneous surface coating affected source, you are required to submit a report in each calendar year in which information previously submitted in either the initial notification required by § 63.11175(a), Notification of Compliance, or a previous annual notification of changes report submitted under this paragraph, has changed. Deviations from the relevant requirements in § 63.11173(a) through (d) or § 63.11173(e) through (g) on the date of the report will be deemed to be a change. This includes notification when paint stripping affected sources that have not developed and implemented a written MeCl minimization plan in accordance with § 63.11173(b) used more than one ton of MeCl in the previous calendar year. The annual notification of changes report must be submitted prior to March 1 of each calendar year when reportable changes have occurred and must include the information specified in paragraphs (a)(1) through (2) of this section.

(1) Your company's name and the street address (physical location) of the affected source and the street address where compliance records are maintained, if different.

(2) The name, title, address, telephone, e-mail address (if available) and signature of the owner and operator, or other certifying company official, certifying the truth, accuracy, and completeness of the notification and a statement of whether the source has complied with all the relevant standards and other requirements of this subpart or an explanation of any noncompliance and a description of corrective actions being taken to achieve compliance.

(b) If you are the owner or operator of a paint stripping affected source that has not developed and implemented a written MeCl minimization plan in accordance with § 63.11173(b) of this subpart, you must submit a report for any calendar year in which you use more than one ton of MeCl. This report must be submitted no later than March 1 of the following calendar year. You must also develop and implement a written MeCl minimization plan in accordance with § 63.11173(b) no later than December 31. You must then submit a Notification of Compliance Status report containing the information specified in § 63.11175(b) by March 1 of the following year and comply with the requirements for paint stripping operations that annually use more than one ton of MeCl in §§ 63.11173(d) and 63.11177(f).

§ 63.11177 What records must I keep?

If you are the owner or operator of a surface coating operation, you must keep the records specified in paragraphs (a) through (d) and (g) of this section. If you are the owner or operator of a paint stripping operation, you must keep the records specified in paragraphs (e) through (g) of this section, as applicable.

(a) Certification that each painter has completed the training specified in § 63.11173(f) with the date the initial training and the most recent refresher training was completed.

(b) Documentation of the filter efficiency of any spray booth exhaust filter material, according to the procedure in § 63.11173(e)(3)(i).

(c) Documentation from the spray gun manufacturer that each spray gun with a cup capacity equal to or greater than 3.0 fluid ounces (89 cc) that does not meet the definition of an HVLP spray gun, electrostatic application, airless spray gun, or air assisted airless spray gun, has been determined by the Administrator to achieve a transfer efficiency equivalent to that of an HVLP spray gun, according to the procedure in § 63.11173(e)(4).

(d) Copies of any notification submitted as required by § 63.11175 and copies of any report submitted as required by § 63.11176.

(e) Records of paint strippers containing MeCl used for paint stripping operations, including the MeCl content of the paint stripper used. Documentation needs to be sufficient to verify annual usage of paint strippers containing MeCl (e.g., material safety data sheets or other documentation provided by the manufacturer or supplier of the paint stripper, purchase receipts, records of paint stripper usage, engineering calculations).

(f) If you are a paint stripping source that annually uses more than one ton of MeCl you are required to maintain a record of your current MeCl minimization plan on site for the duration of your paint stripping operations. You must also keep records of your annual review of, and updates to, your MeCl minimization plan.

(g) Records of any deviation from the requirements in §§ 63.11173, 63.11174, 63.11175, or 63.11176. These records must include the date and time period of the deviation, and a description of the nature of the deviation and the actions taken to correct the deviation.

(h) Records of any assessments of source compliance performed in support of the initial notification, notification of compliance status, or annual notification of changes report.

§ 63.11178 In what form and for how long must I keep my records?

(a) If you are the owner or operator of an affected source, you must maintain copies of the records specified in § 63.11177 for a period of at least five years after the date of each record. Copies of records must be kept on site and in a printed or electronic form that is readily accessible for inspection for at least the first two years after their date, and may be kept off-site after that two year period.

Other Requirements and Information

§ 63.11179 Who implements and enforces this subpart?

(a) This subpart can be implemented and enforced by us, the U.S. Environmental Protection Agency (EPA), or a delegated authority such as your State, local, or tribal agency. If the Administrator has delegated authority to your State, local, or tribal agency, then that agency (as well as the EPA) has the authority to implement and enforce this subpart. You should contact your EPA Regional Office to find out if implementation and enforcement of this subpart is delegated to your State, local, or tribal agency.

(b) In delegating implementation and enforcement authority of this subpart to a State, local, or tribal agency under subpart E of this part, the authorities contained in paragraph (c) of this section are retained by the Administrator and are not transferred to the State, local, or tribal agency.

(c) The authority in § 63.11173(e)(5) will not be delegated to State, local, or tribal agencies.

§ 63.11180 What definitions do I need to know?

Terms used in this subpart are defined in the Clean Air Act, in 40 CFR 63.2, and in this section as follows:

Additive means a material that is added to a coating after purchase from a supplier (e.g., catalysts, activators, accelerators).

Administrator means, for the purposes of this rulemaking, the Administrator of the U.S. Environmental Protection Agency or the State or local agency that is granted delegation for implementation of this subpart.

Aerospace vehicle or component means any fabricated part, processed part, assembly of parts, or completed unit, with the exception of electronic components, of any aircraft including but not limited to airplanes, helicopters, missiles, rockets, and space vehicles.

Airless and air-assisted airless spray mean any paint spray technology that relies solely on the fluid pressure of the paint to create an atomized paint spray pattern and does not apply any atomizing compressed air to the paint before it leaves the paint nozzle. Air-assisted airless spray uses compressed air to shape and distribute the fan of atomized paint, but still uses fluid pressure to create the atomized paint.

Appurtenance means any accessory to a stationary structure coated at the site of installation, whether installed or detached, including but not limited to: bathroom and kitchen fixtures; cabinets; concrete forms; doors; elevators; fences; hand railings; heating equipment, air conditioning equipment, and other fixed mechanical equipment or stationary tools; lamp posts; partitions; pipes and piping systems; rain gutters and downspouts; stairways, fixed ladders, catwalks, and fire escapes; and window screens.

Architectural coating means a coating to be applied to stationary structures or their appurtenances at the site of installation, to portable buildings at the site of installation, to pavements, or to curbs.

Cleaning material means a solvent used to remove contaminants and other materials, such as dirt, grease, or oil, from a substrate before or after coating application or from equipment associated with a coating operation, such as spray booths, spray guns, racks, tanks, and hangers. Thus, it includes any cleaning material used on substrates or equipment or both.

Coating means, for the purposes of this subpart, a material spray-applied to a substrate for decorative, protective, or functional purposes. For the purposes of this subpart, coating does not include the following materials:

(1) Decorative, protective, or functional materials that consist only of protective oils for metal, acids, bases, or any combination of these substances.

(2) Paper film or plastic film that may be pre-coated with an adhesive by the film manufacturer.

(3) Adhesives, sealants, maskants, or caulking materials.

(4) Temporary protective coatings, lubricants, or surface preparation materials.

(5) In-mold coatings that are spray-applied in the manufacture of reinforced plastic composite parts.

Compliance date means the date by which you must comply with this subpart.

Deviation means any instance in which an affected source, subject to this subpart, or an owner or operator of such a source fails to meet any requirement or obligation established by this subpart.

Dry media blasting means abrasive blasting using dry media. Dry media blasting relies on impact and abrasion to remove paint from a substrate. Typically, a compressed air stream is used to propel the media against the coated surface.

Electrostatic application means any method of coating application where an electrostatic attraction is created between the part to be coated and the atomized paint particles.

Equipment cleaning means the use of an organic solvent to remove coating residue from the surfaces of paint spray guns and other painting related equipment, including, but not limited to stir sticks, paint cups, brushes, and spray booths.

Facility maintenance means, for the purposes of this subpart, surface coating performed as part of the routine repair or renovation of the tools, equipment, machinery, and structures that comprise the infrastructure of the affected facility and that are necessary for the facility to function in its intended capacity. Facility maintenance also includes surface coating associated with the installation of new equipment or structures, and the application of any surface coating as part of janitorial activities. Facility maintenance includes the application of coatings to stationary structures or their appurtenances at the site of installation, to portable buildings at the site of installation, to pavements, or to curbs. Facility maintenance also includes the refinishing of mobile equipment in the field or at the site where they are used in service and at which they are intended to remain indefinitely after refinishing. Such mobile equipment includes, but is not limited to, farm equipment and mining equipment for which it is not practical or feasible to move to a dedicated mobile equipment refinishing facility. Such mobile equipment also includes items, such as fork trucks, that are used in a manufacturing facility and which are refinished in that same facility. Facility maintenance does not include surface coating of motor vehicles, mobile equipment, or items that routinely leave and return to the facility, such as delivery trucks, rental equipment, or containers used to transport, deliver, distribute, or dispense commercial products to customers, such as compressed gas canisters.

High-volume, low-pressure (HVLP) spray equipment means spray equipment that is permanently labeled as such and used to apply any coating by means of a spray gun which is designed and operated between 0.1 and 10 pounds per square inch gauge (psig) air atomizing pressure measured dynamically at the center of the air cap and at the air horns.

Initial startup means the first time equipment is brought online in a paint stripping or surface coating operation, and paint stripping or surface coating is first performed.

Materials that contain HAP or HAP-containing materials mean, for the purposes of this subpart, materials that contain 0.1 percent or more by mass of any individual HAP that is an OSHA-defined carcinogen as specified in 29 CFR 1910.1200(d)(4), or 1.0 percent or more by mass for any other individual HAP.

Military munitions means all ammunition products and components produced or used by or for the U.S. Department of Defense (DoD) or for the U.S. Armed Services for national defense and security, including military munitions under the control of the Department of Defense, the U.S. Coast Guard, the National Nuclear Security Administration (NNSA), U.S. Department of Energy (DOE), and National Guard personnel. The term military munitions includes: confined gaseous, liquid, and solid propellants, explosives, pyrotechnics, chemical and riot control agents, smokes, and incendiaries used by DoD components, including bulk explosives and chemical warfare agents, chemical munitions, biological weapons, rockets, guided and ballistic missiles, bombs, warheads, mortar rounds, artillery ammunition, small arms ammunition, grenades, mines, torpedoes, depth charges, cluster munitions and dispensers, demolition charges, nonnuclear components of nuclear weapons, wholly inert ammunition products, and all devices and components of any items listed in this definition.

Miscellaneous parts and/or products means any part or product made of metal or plastic, or combinations of metal and plastic. Miscellaneous parts and/or products include, but are not limited to, metal and plastic components of the following types of products as well as the products themselves: motor vehicle parts and accessories for automobiles, trucks, recreational vehicles; automobiles and light duty trucks at automobile and light duty truck assembly plants; boats; sporting and recreational goods; toys; business machines; laboratory and medical equipment; and household and other consumer products.

Miscellaneous surface coating operation means the collection of equipment used to apply surface coating to miscellaneous parts and/or products made of metal or plastic, including applying cleaning solvents to prepare the surface before coating application, mixing coatings before application, applying coating to a surface, drying or curing the coating after application, and cleaning coating application equipment, but not plating. A single surface coating operation may include any combination of these types of equipment, but always includes at least the point at which a coating material is applied to a given part. A surface coating operation includes all other steps (such as surface preparation with solvent and equipment cleaning) in the affected source where HAP are emitted from the coating of a part. The use of solvent to clean parts (for example, to remove grease during a mechanical repair) does not constitute a miscellaneous surface coating operation if no coatings are applied. A single affected source may have multiple surface coating operations. Surface coatings applied to wood, leather, rubber, ceramics, stone, masonry, or substrates other than metal and plastic are not considered miscellaneous surface coating operations for the purposes of this subpart.

Mobile equipment means any device that may be drawn and/or driven on a roadway including, but not limited to, heavy-duty trucks, truck trailers, fleet delivery trucks, buses, mobile cranes, bulldozers, street cleaners, agriculture equipment, motor homes, and other recreational vehicles (including camping trailers and fifth wheels).

Motor vehicle means any self-propelled vehicle, including, but not limited to, automobiles, light duty trucks, golf carts, vans, and motorcycles.

Motor vehicle and mobile equipment surface coating means the spray application of coatings to assembled motor vehicles or mobile equipment. For the purposes of this subpart, it does not include the surface coating of motor vehicle or mobile equipment parts or subassemblies at a vehicle assembly plant or parts manufacturing plant.

Non-HAP solvent means, for the purposes of this subpart, a solvent (including thinners and cleaning solvents) that contains less than 0.1 percent by mass of any individual HAP that is an OSHA-defined carcinogen as specified in 29 CFR 1910.1200(d)(4) and less than 1.0 percent by mass for any other individual HAP.

Paint stripping and/or miscellaneous surface coating source or facility means any shop, business, location, or parcel of land where paint stripping or miscellaneous surface coating operations are conducted.

Paint stripping means the removal of dried coatings from wood, metal, plastic, and other substrates. A single affected source may have multiple paint stripping operations.

Painter means any person who spray applies coating.

Plastic refers to substrates containing one or more resins and may be solid, porous, flexible, or rigid. Plastics include fiber reinforced plastic composites.

Protective oil means organic material that is applied to metal for the purpose of providing lubrication or protection from corrosion without forming a solid film. This definition of protective oil includes, but is not limited to, lubricating oils, evaporative oils (including those that evaporate completely), and extrusion oils.

Quality control activities means surface coating or paint stripping activities that meet all of the following criteria:

(1) The activities associated with a surface coating or paint stripping operation are intended to detect and correct defects in the final product by selecting a limited number of samples from the operation, and comparing the samples against specific performance criteria.

(2) The activities do not include the production of an intermediate or final product for sale or exchange for commercial profit; for example, parts that are surface coated or stripped are not sold and do not leave the facility.

(3) The activities are not a normal part of the surface coating or paint stripping operation; for example, they do not include color matching activities performed during a motor vehicle collision repair.

(4) The activities do not involve surface coating or stripping of the tools, equipment, machinery, and structures that comprise the infrastructure of the affected facility and that are necessary for the facility to function in its intended capacity; that is, the activities are not facility maintenance.

Research and laboratory activities means surface coating or paint stripping activities that meet one of the following criteria:

(1) Conducted at a laboratory to analyze air, soil, water, waste, or product samples for contaminants, or environmental impact.

(2) Activities conducted to test more efficient production processes, including alternative paint stripping or surface coating materials or application methods, or methods for preventing or reducing adverse environmental impacts, provided that the activities do not include the production of an intermediate or final product for sale or exchange for commercial profit.

(3) Activities conducted at a research or laboratory facility that is operated under the close supervision of technically trained personnel, the primary purpose of which is to conduct research and development into new processes and products and that is not engaged in the manufacture of products for sale or exchange for commercial profit.

Solvent means a fluid containing organic compounds used to perform paint stripping, surface prep, or cleaning of surface coating equipment.

Space Vehicle means vehicles designed to travel beyond the limit of the earth's atmosphere, including but not limited to satellites, space stations, and the Space Shuttle System (including orbiter, external tanks, and solid rocket boosters).

Spray-applied coating operations means coatings that are applied using a hand-held device that creates an atomized mist of coating and deposits the coating on a substrate. For the purposes of this subpart, spray-applied coatings do not include the following materials or activities:

(1) Coatings applied from a hand-held device with a paint cup capacity that is equal to or less than 3.0 fluid ounces (89 cubic centimeters).

(2) Surface coating application using powder coating, hand-held, non-refillable aerosol containers, or non-atomizing application technology, including, but not limited to, paint brushes, rollers, hand wiping, flow coating, dip coating, electrodeposition coating, web coating, coil coating, touch-up markers, or marking pens.

(3) Thermal spray operations (also known as metallizing, flame spray, plasma arc spray, and electric arc spray, among other names) in which solid metallic or non-metallic material is heated to a molten or semi-molten state and propelled to the work piece or substrate by compressed air or other gas, where a bond is produced upon impact.

Surface preparation or Surface prep means use of a cleaning material on a portion of or all of a substrate prior to the application of a coating.

Target HAP are compounds of chromium (Cr), lead (Pb), manganese (Mn), nickel (Ni), or cadmium (Cd).

Target HAP containing coating means a spray-applied coating that contains any individual target HAP that is an Occupational Safety and Health Administration (OSHA)-defined carcinogen as specified in 29 CFR 1910.1200(d)(4) at a concentration greater than 0.1 percent by mass, or greater than 1.0 percent by mass for any other individual target HAP compound. For the purpose of determining whether materials you use contain the target HAP compounds, you may rely on formulation data provided by the manufacturer or supplier, such as the material safety data sheet (MSDS), as long as it represents each target HAP compound in the material that is present at 0.1 percent by mass or more for OSHA-defined carcinogens as specified in 29 CFR 1910.1200(d)(4) and at 1.0 percent by mass or more for other target HAP compounds.

Transfer efficiency means the amount of coating solids adhering to the object being coated divided by the total amount of coating solids sprayed, expressed as a percentage. Coating solids means the nonvolatile portion of the coating that makes up the dry film.

Truck bed liner coating means any coating, excluding color coats, labeled and formulated for application to a truck bed to protect it from surface abrasion.

Table 1 to Subpart HHHHHH of Part 63.—Applicability of General Provisions to Subpart HHHHHH of Part 63
Citation | Subject | Applicable to subpart HHHHHH | Explanation
§ 63.1(a)(1)-(12) | General Applicability | Yes
§ 63.1(b)(1)-(3) | Initial Applicability Determination | Yes | Applicability of subpart HHHHHH is also specified in § 63.11170.
§ 63.1(c)(1) | Applicability After Standard Established | Yes
§ 63.1(c)(2) | Applicability of Permit Program for Area Sources | Yes | (63.11174(b) of Subpart HHHHHH exempts area sources from the obligation to obtain Title V operating permits.
§ 63.1(c)(5) | Notifications | Yes
§ 63.1(e) | Applicability of Permit Program to Major Sources Before Relevant Standard is Set | No | (63.11174(b) of Subpart HHHHHH exempts area sources from the obligation to obtain Title V operating permits.
§ 63.2 | Definitions | Yes | Additional definitions are specified in § 63.11180.
§ 63.3(a)-(c) | Units and Abbreviations | Yes
§ 63.4(a)(1)-(5) | Prohibited Activities | Yes
§ 63.4(b)-(c) | Circumvention/Fragmentation | Yes
§ 63.5 | Construction/Reconstruction of major sources | No | Subpart HHHHHH applies only to area sources.
§ 63.6(a) | Compliance With Standards and Maintenance Requirements—Applicability | Yes
§ 63.6(b)(1)-(7) | Compliance Dates for New and Reconstructed Sources | Yes | § 63.11172 specifies the compliance dates.
§ 63.6(c)(1)-(5) | Compliance Dates for Existing Sources | Yes | § 63.11172 specifies the compliance dates.
§ 63.6(e)(1)-(2) | Operation and Maintenance | Yes
§ 63.6(e)(3) | Startup, Shutdown, and Malfunction Plan | No | No startup, shutdown, and malfunction plan is required by subpart HHHHHH.
§ 63.6(f)(1) | Compliance Except During Startup, Shutdown, and Malfunction | Yes
§ 63.6(f)(2)-(3) | Methods for Determining Compliance | Yes
§ 63.6(g)(1)-(3) | Use of an Alternative Standard | Yes
§ 63.6(h) | Compliance With Opacity/Visible Emission Standards | No | Subpart HHHHHH does not establish opacity or visible emission standards.
§ 63.6(i)(1)-(16) | Extension of Compliance | Yes
§ 63.6(j) | Presidential Compliance Exemption | Yes
§ 63.7 | Performance Testing Requirements | No | No performance testing is required by subpart HHHHHH.
§ 63.8 | Monitoring Requirements | No | Subpart HHHHHH does not require the use of continuous monitoring systems.
§ 63.9(a)-(d) | Notification Requirements | Yes | § 63.11175 specifies notification requirements.
§ 63.9(e) | Notification of Performance Test | No | Subpart HHHHHH does not require performance tests.
§ 63.9(f) | Notification of Visible Emissions/Opacity Test | No | Subpart HHHHHH does not have opacity or visible emission standards.
§ 63.9(g) | Additional Notifications When Using CMS | No | Subpart HHHHHH does not require the use of continuous monitoring systems.
§ 63.9(h) | Notification of Compliance Status | No | § 63.11175 specifies the dates and required content for submitting the notification of compliance status.
§ 63.9(i) | Adjustment of Submittal Deadlines | Yes
§ 63.9(j) | Change in Previous Information | Yes | § 63.11176(a) specifies the dates for submitting the notification of changes report.
§ 63.10(a) | Recordkeeping/Reporting—Applicability and General Information | Yes
§ 63.10(b)(1) | General Recordkeeping Requirements | Yes | Additional requirements are specified in § 63.11177.
§ 63.10(b)(2)(i)-(xi) | Recordkeeping Relevant to Startup, Shutdown, and Malfunction Periods and CMS | No | Subpart HHHHHH does not require startup, shutdown, and malfunction plans, or CMS.
§ 63.10(b)(2)(xii) | Waiver of recordkeeping requirements | Yes
§ 63.10(b)(2)(xiii) | Alternatives to the relative accuracy test | No | Subpart HHHHHH does not require the use of CEMS.
§ 63.10(b)(2)(xiv) | Records supporting notifications | Yes
§ 63.10(b)(3) | Recordkeeping Requirements for Applicability Determinations | Yes |
§ 63.10(c) | Additional Recordkeeping Requirements for Sources with CMS | No | Subpart HHHHHH does not require the use of CMS.
§ 63.10(d)(1) | General Reporting Requirements | Yes | Additional requirements are specified in § 63.11176.
§ 63.10(d)(2)-(3) | Report of Performance Test Results, and Opacity or Visible Emissions Observations | No | Subpart HHHHHH does not require performance tests, or opacity or visible emissions observations.
§ 63.10(d)(4) | Progress Reports for Sources With Compliance Extensions | Yes
§ 63.10(d)(5) | Startup, Shutdown, and Malfunction Reports | No | Subpart HHHHHH does not require startup, shutdown, and malfunction reports.
§ 63.10(e) | Additional Reporting requirements for Sources with CMS | No | Subpart HHHHHH does not require the use of CMS.
§ 63.10(f) | Recordkeeping/Reporting Waiver | Yes
§ 63.11 | Control Device Requirements/Flares | No | Subpart HHHHHH does not require the use of flares.
§ 63.12 | State Authority and Delegations | Yes
§ 63.13 | Addresses of State Air Pollution Control Agencies and EPA Regional Offices | Yes
§ 63.14 | Incorporation by Reference | Yes | Test methods for measuring paint booth filter efficiency and spray gun transfer efficiency in § 63.11173(e)(2) and (3) are incorporated and included in § 63.14.
§ 63.15 | Availability of Information/Confidentiality | Yes
§ 63.16(a) | Performance Track Provisions—reduced reporting | Yes
§ 63.16(b)-(c) | Performance Track Provisions—reduced reporting | No | Subpart HHHHHH does not establish numerical emission limits.

[FR Doc. E7-24718 Filed 1-8-08; 8:45 am]

BILLING CODE 6560-50-P